DEPARTMENT OF AGRICULTURE

Agricultural Marketing Service

7 CFR Part 1205

[Doc. No. AMS-CN-23-0004]

Cotton Board Rules and Regulations: Adjusting Supplemental Assessment on Imports (2023 Amendments)

AGENCY: Agricultural Marketing Service, Department of Agriculture (USDA).

ACTION: Direct final rule.

SUMMARY: The Agricultural Marketing Service (AMS) is amending the Cotton Board Rules and Regulations, increasing the value assigned to imported cotton for the purposes of calculating supplemental assessments collected for use by the Cotton Research and Promotion Program. This amendment is required each year to ensure that assessments collected on imported cotton and the cotton content of imported products will be the same as those paid on domestically produced cotton. In addition, AMS is updating the Harmonized Tariff Schedule (HTS) statistical reporting numbers that were amended since the last assessment adjustment in 2022.

DATES: This direct final rule is effective October 16, 2023, without further action or notice, unless significant adverse comment is received by September 14, 2023. If significant adverse comment is received, AMS will publish a timely withdrawal of the amendment in the Federal Register.

ADDRESSES: Interested persons are invited to submit written comments concerning this direct final rule. Comments may be submitted by mail or hand delivery to Cotton Research and Promotion, Cotton and Tobacco Program, AMS, USDA, 100 Riverside Parkway, Suite 101, Fredericksburg, Virginia 22406 or via the internet at: https://www.regulations.gov. All comments should reference the document number and the date and page number of this issue of the Federal Register. All comments submitted in response to this direct final rule will be included in the record and will be made available to the public and can be viewed at: https://www.regulations.gov. Please be advised that the identity of the individuals or entities submitting the comments will be made public on the internet at the address provided above.

FOR FURTHER INFORMATION CONTACT: Shethir M. Riva, Director, Research and Promotion, Cotton and Tobacco Program, AMS, USDA, 100 Riverside Parkway, Suite 101, Fredericksburg, Virginia 22406, telephone (540) 361-2726, facsimile (540) 361-1199, or email at CottonRP@usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 Stat. 3909, November 28, 1990). These amendments contained two provisions that authorized changes in the funding procedures for the Cotton Research and Promotion Program. These provisions provided for: (1) the assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991 (56 FR 64470). A proposed rule implementing the amended Order was published in the Federal Register on December 17, 1991 (56 FR 65450). Implementing rules were published on July 1 and 2, 1992 (57 FR 29181) and (57 FR 29431), respectively.

This direct final rule amends the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Board Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2022 in the Federal Register (87 FR 58711) for the purpose of calculating assessments on imported cotton is $0.013215 per kilogram. Using the average weighted price received by U.S. farmers for Upland cotton for the calendar year 2022, this direct final rule amends the new value of imported cotton to $0.014691 per kilogram to reflect the price received by U.S. farmers for Upland cotton during 2022.

An example of the complete assessment formula and how the figures are obtained is as follows: ¹

¹ Results are rounded for ease of presentation. Totals may not sum due to rounding.

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or 0.2000 cents per pound (1/500) or $0.004409 per kg or 0.4409 cents per kg. (1/226.8).

Supplemental Assessment of 5/10 of One Percent of the Value of the Cotton Converted to Kilograms

The 2022 calendar year weighted average price received by producers for Upland cotton is $0.933 per pound or $2.056 per kg. (0.933 × 2.2046).

Five tenths of one percent of the average price equals $0.010282 per kg. (2.056 × 0.005).

Total Assessment

The total assessment per kilogram of raw cotton is obtained by adding the $1 per bale equivalent assessment of $0.004409 per kg. and the supplemental assessment $0.010282 per kg., which equals $0.014691 per kg.

The current assessment on imported cotton is $0.013215 per kilogram of imported cotton. The revised assessment in this direct final rule is $0.014691, an increase of $0.001476 per kilogram. This reflects the increase in the average weighted price of Upland cotton received by U.S. farmers during the period January through December 2022.

The Import Assessment Table in § 1205.510(b)(3) of the Order indicates the total assessment rate ($ per kilogram) due for each Harmonized Tariff Schedule (HTS) number that is subject to assessment. This table must be revised each year to reflect changes in supplemental assessment rates and any changes to the HTS numbers. In this direct final rule, AMS is amending the Import Assessment Table.

AMS believes that these amendments are necessary to ensure that assessments collected on imported cotton and the cotton content of imported products are the same as those paid on domestically produced cotton. Accordingly, changes reflected in this rule should be adopted and implemented as soon as possible since it is required by regulation.

As described in this Federal Register document, the amendment to the value used to determine the Cotton Research and Promotion Program importer assessment will be updated to reflect the assessment already paid by U.S. farmers. For the reasons mentioned above, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

AMS has used the direct rule rulemaking process since 2013 and has not received any adverse comments; however, if AMS receives significant adverse comments during the comment period, it will publish, in a timely manner, a document in the Federal Register withdrawing this direct final rule. AMS will then address public comments in a subsequent proposed rule and final rule based on the proposed rule.

B. Rulemaking Analyses

Executive Order 13175

This action has been reviewed in accordance with the requirements of Executive Order 13175, Consultation and Coordination with Indian Tribal Governments. The review reveals that this regulation would not have substantial and direct effects on Tribal governments and would not have significant Tribal implications.

Executive Orders 12866 and 13563

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, reducing costs, harmonizing rules, and promoting flexibility. This action falls within a category of regulatory actions that the Office of Management and Budget (OMB) exempted from Executive Order 12866 review.

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration (SBA) defines, in 13 CFR 121.201, a small cotton farming business as those having annual receipts of no more than $3.25 million (North American Industry Classification System (NAICS) Code 111920) and small “Other Farm Product Raw Material Merchant Wholesalers” (cotton merchants/importers) (NAICS Code 424590) as having no more than 175 employees.

According to the NASS 2017 Agriculture Census, the number of cotton farms is 15,846. NASS also reports that the total U.S. production value averages $5,993,255,333 for 2020-2022. Dividing the crop value by the number of cotton farms, the average crop value is approximately $378,219. Since $378,219 is well below $3.25 million and assuming a normal distribution, the majority of cotton farmers are small according to the SBA standards.

The Cotton Board estimates approximately 40,000 importers are subject to the Cotton Research and Promotion Order. According to the United States Census Bureau's “2019 Survey of SUSB Annual Data Tables by Establishment Industry,” most importers are considered small entities as defined by the SBA (13 CFR 121.201). This rule would only affect importers of cotton and cotton-containing products and would increase the assessments paid by the importers under the Cotton Research and Promotion Order. The current assessment on imported cotton is $0.013215 per kilogram of imported cotton. The amended assessment is $0.014691, which was calculated based on the 12-month weighted average of price received by U.S. cotton farmers in 2022. Section 1205.510 of the Order, “Levy of assessments”, provides “The rate of the supplemental assessment on imported cotton will be the same as that levied on cotton produced within the United States.” In addition, § 1205.510 provides that the 12-month weighted average of prices received by U.S. farmers will be used as the value of imported cotton for the purpose of levying the supplemental assessment on imported cotton. Under the Cotton Research and Promotion Program, assessments are used by the Cotton Board to finance research and promotion programs designed to increase consumer demand for Upland cotton in the United States and international markets. In 2022, producer assessments totaled $52.6 million and importer assessments totaled $44.6 million. According to the Cotton Board, should the volume of cotton products imported into the U.S. remain at the same level in 2023, one could expect an increase of assessments by approximately $4,984,487.

Imported organic cotton and products may be exempt from assessment if eligible under § 1205.519 of the Order.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations herein. This period is deemed appropriate because an amendment is required to adjust the assessments collected on imported cotton and the cotton content of imported products to be the same as those paid on domestically produced cotton.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for part 1205 continues to read as follows:

Authority: 7 U.S.C. 2101-2118; 7 U.S.C. 7401.

2. In § 1205.510, paragraph (b)(2) and the table in paragraph (b)(3) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.4691 cents per kilogram.

(3) * * *

Table 2 to Paragraph (b)(3)—Import Assessment Table
[Raw cotton fiber]
HTS No. | Conv. factor. | Cents/kg.
5007106010 | 0.2713 | 0.3986
5007106020 | 0.2713 | 0.3986
5007906010 | 0.2713 | 0.3986
5007906020 | 0.2713 | 0.3986
5112904000 | 0.1085 | 0.1594
5112905000 | 0.1085 | 0.1594
5112909010 | 0.1085 | 0.1594
5112909090 | 0.1085 | 0.1594
5201000500 | 1 | 1.4691
5201001200 | 1 | 1.4691
5201001400 | 1 | 1.4691
5201001800 | 1 | 1.4691
5201002200 | 1 | 1.4691
5201002400 | 1 | 1.4691
5201002800 | 1 | 1.4691
5201003400 | 1 | 1.4691
5201003800 | 1 | 1.4691
5204110000 | 1.0526 | 1.5464
5204190000 | 0.6316 | 0.9279
5204200000 | 1.0526 | 1.5464
5205111000 | 1 | 1.4691
5205112000 | 1 | 1.4691
5205121000 | 1 | 1.4691
5205122000 | 1 | 1.4691
5205131000 | 1 | 1.4691
5205132000 | 1 | 1.4691
5205141000 | 1 | 1.4691
5205142000 | 1 | 1.4691
5205151000 | 1 | 1.4691
5205152000 | 1 | 1.4691
5205210020 | 1.044 | 1.5337
5205210090 | 1.044 | 1.5337
5205220020 | 1.044 | 1.5337
5205220090 | 1.044 | 1.5337
5205230020 | 1.044 | 1.5337
5205230090 | 1.044 | 1.5337
5205240020 | 1.044 | 1.5337
5205240090 | 1.044 | 1.5337
5205260020 | 1.044 | 1.5337
5205260090 | 1.044 | 1.5337
5205270020 | 1.044 | 1.5337
5205270090 | 1.044 | 1.5337
5205280020 | 1.044 | 1.5337
5205280090 | 1.044 | 1.5337
5205310000 | 1 | 1.4691
5205320000 | 1 | 1.4691
5205330000 | 1 | 1.4691
5205340000 | 1 | 1.4691
5205350000 | 1 | 1.4691
5205410020 | 1.044 | 1.5337
5205410090 | 1.044 | 1.5337
5205420021 | 1.044 | 1.5337
5205420029 | 1.044 | 1.5337
5205420090 | 1.044 | 1.5337
5205430021 | 1.044 | 1.5337
5205430029 | 1.044 | 1.5337
5205430090 | 1.044 | 1.5337
5205440021 | 1.044 | 1.5337
5205440029 | 1.044 | 1.5337
5205440090 | 1.044 | 1.5337
5205460021 | 1.044 | 1.5337
5205460029 | 1.044 | 1.5337
5205460090 | 1.044 | 1.5337
5205470021 | 1.044 | 1.5337
5205470029 | 1.044 | 1.5337
5205470090 | 1.044 | 1.5337
5205480020 | 1.044 | 1.5337
5205480090 | 1.044 | 1.5337
5206110000 | 0.7368 | 1.0824
5206120000 | 0.7368 | 1.0824
5206130000 | 0.7368 | 1.0824
5206140000 | 0.7368 | 1.0824
5206150000 | 0.7368 | 1.0824
5206210000 | 0.7692 | 1.1300
5206220000 | 0.7692 | 1.1300
5206230000 | 0.7692 | 1.1300
5206240000 | 0.7692 | 1.1300
5206250000 | 0.7692 | 1.1300
5206310000 | 0.7368 | 1.0824
5206320000 | 0.7368 | 1.0824
5206330000 | 0.7368 | 1.0824
5206340000 | 0.7368 | 1.0824
5206350000 | 0.7368 | 1.0824
5206410000 | 0.7692 | 1.1300
5206420000 | 0.7692 | 1.1300
5206430000 | 0.7692 | 1.1300
5206440000 | 0.7692 | 1.1300
5206450000 | 0.7692 | 1.1300
5207100000 | 0.9474 | 1.3918
5207900000 | 0.6316 | 0.9279
5208112020 | 1.0852 | 1.5943
5208112040 | 1.0852 | 1.5943
5208112090 | 1.0852 | 1.5943
5208114020 | 1.0852 | 1.5943
5208114040 | 1.0852 | 1.5943
5208114060 | 1.0852 | 1.5943
5208114090 | 1.0852 | 1.5943
5208116000 | 1.0852 | 1.5943
5208118020 | 1.0852 | 1.5943
5208118090 | 1.0852 | 1.5943
5208124020 | 1.0852 | 1.5943
5208124040 | 1.0852 | 1.5943
5208124090 | 1.0852 | 1.5943
5208126020 | 1.0852 | 1.5943
5208126040 | 1.0852 | 1.5943
5208126060 | 1.0852 | 1.5943
5208126090 | 1.0852 | 1.5943
5208128020 | 1.0852 | 1.5943
5208128090 | 1.0852 | 1.5943
5208130000 | 1.0852 | 1.5943
5208192020 | 1.0852 | 1.5943
5208192090 | 1.0852 | 1.5943
5208194020 | 1.0852 | 1.5943
5208194090 | 1.0852 | 1.5943
5208196020 | 1.0852 | 1.5943
5208196090 | 1.0852 | 1.5943
5208198020 | 1.0852 | 1.5943
5208198090 | 1.0852 | 1.5943
5208212020 | 1.0852 | 1.5943
5208212040 | 1.0852 | 1.5943
5208212090 | 1.0852 | 1.5943
5208214020 | 1.0852 | 1.5943
5208214040 | 1.0852 | 1.5943
5208214060 | 1.0852 | 1.5943
5208214090 | 1.0852 | 1.5943
5208216020 | 1.0852 | 1.5943
5208216090 | 1.0852 | 1.5943
5208224020 | 1.0852 | 1.5943
5208224040 | 1.0852 | 1.5943
5208224090 | 1.0852 | 1.5943
5208226020 | 1.0852 | 1.5943
5208226040 | 1.0852 | 1.5943
5208226060 | 1.0852 | 1.5943
5208226090 | 1.0852 | 1.5943
5208228020 | 1.0852 | 1.5943
5208228090 | 1.0852 | 1.5943
5208230000 | 1.0852 | 1.5943
5208292020 | 1.0852 | 1.5943
5208292090 | 1.0852 | 1.5943
5208294020 | 1.0852 | 1.5943
5208294090 | 1.0852 | 1.5943
5208296020 | 1.0852 | 1.5943
5208296090 | 1.0852 | 1.5943
5208298020 | 1.0852 | 1.5943
5208298090 | 1.0852 | 1.5943
5208312000 | 1.0852 | 1.5943
5208314020 | 1.0852 | 1.5943
5208314040 | 1.0852 | 1.5943
5208314090 | 1.0852 | 1.5943
5208316020 | 1.0852 | 1.5943
5208316040 | 1.0852 | 1.5943
5208316060 | 1.0852 | 1.5943
5208316090 | 1.0852 | 1.5943
5208318020 | 1.0852 | 1.5943
5208318090 | 1.0852 | 1.5943
5208321000 | 1.0852 | 1.5943
5208323020 | 1.0852 | 1.5943
5208323040 | 1.0852 | 1.5943
5208323090 | 1.0852 | 1.5943
5208324020 | 1.0852 | 1.5943
5208324040 | 1.0852 | 1.5943
5208324060 | 1.0852 | 1.5943
5208324090 | 1.0852 | 1.5943
5208325020 | 1.0852 | 1.5943
5208325090 | 1.0852 | 1.5943
5208330000 | 1.0852 | 1.5943
5208392020 | 1.0852 | 1.5943
5208392090 | 1.0852 | 1.5943
5208394020 | 1.0852 | 1.5943
5208394090 | 1.0852 | 1.5943
5208396020 | 1.0852 | 1.5943
5208396090 | 1.0852 | 1.5943
5208398020 | 1.0852 | 1.5943
5208398090 | 1.0852 | 1.5943
5208412000 | 1.0852 | 1.5943
5208414000 | 1.0852 | 1.5943
5208416000 | 1.0852 | 1.5943
5208418000 | 1.0852 | 1.5943
5208421000 | 1.0852 | 1.5943
5208423000 | 1.0852 | 1.5943
5208424000 | 1.0852 | 1.5943
5208425000 | 1.0852 | 1.5943
5208430000 | 1.0852 | 1.5943
5208492000 | 1.0852 | 1.5943
5208494010 | 1.0852 | 1.5943
5208494020 | 1.0852 | 1.5943
5208494090 | 1.0852 | 1.5943
5208496010 | 1.0852 | 1.5943
5208496020 | 1.0852 | 1.5943
5208496030 | 1.0852 | 1.5943
5208496090 | 1.0852 | 1.5943
5208498020 | 1.0852 | 1.5943
5208498090 | 1.0852 | 1.5943
5208512000 | 1.0852 | 1.5943
5208514020 | 1.0852 | 1.5943
5208514040 | 1.0852 | 1.5943
5208514090 | 1.0852 | 1.5943
5208516020 | 1.0852 | 1.5943
5208516040 | 1.0852 | 1.5943
5208516060 | 1.0852 | 1.5943
5208516090 | 1.0852 | 1.5943
5208518020 | 1.0852 | 1.5943
5208518090 | 1.0852 | 1.5943
5208521000 | 1.0852 | 1.5943
5208523020 | 1.0852 | 1.5943
5208523035 | 1.0852 | 1.5943
5208523045 | 1.0852 | 1.5943
5208523090 | 1.0852 | 1.5943
5208524020 | 1.0852 | 1.5943
5208524035 | 1.0852 | 1.5943
5208524045 | 1.0852 | 1.5943
5208524055 | 1.0852 | 1.5943
5208524065 | 1.0852 | 1.5943
5208524090 | 1.0852 | 1.5943
5208525020 | 1.0852 | 1.5943
5208525090 | 1.0852 | 1.5943
5208591000 | 1.0852 | 1.5943
5208592015 | 1.0852 | 1.5943
5208592025 | 1.0852 | 1.5943
5208592085 | 1.0852 | 1.5943
5208592095 | 1.0852 | 1.5943
5208594020 | 1.0852 | 1.5943
5208594090 | 1.0852 | 1.5943
5208596020 | 1.0852 | 1.5943
5208596090 | 1.0852 | 1.5943
5208598020 | 1.0852 | 1.5943
5208598090 | 1.0852 | 1.5943
5209110020 | 1.0309 | 1.5145
5209110025 | 1.0309 | 1.5145
5209110035 | 1.0309 | 1.5145
5209110050 | 1.0309 | 1.5145
5209110090 | 1.0309 | 1.5145
5209120020 | 1.0309 | 1.5145
5209120040 | 1.0309 | 1.5145
5209190020 | 1.0309 | 1.5145
5209190040 | 1.0309 | 1.5145
5209190060 | 1.0309 | 1.5145
5209190090 | 1.0309 | 1.5145
5209210020 | 1.0309 | 1.5145
5209210025 | 1.0309 | 1.5145
5209210035 | 1.0309 | 1.5145
5209210050 | 1.0309 | 1.5145
5209210090 | 1.0309 | 1.5145
5209220020 | 1.0309 | 1.5145
5209220040 | 1.0309 | 1.5145
5209290020 | 1.0309 | 1.5145
5209290040 | 1.0309 | 1.5145
5209290060 | 1.0309 | 1.5145
5209290090 | 1.0309 | 1.5145
5209313000 | 1.0309 | 1.5145
5209316020 | 1.0309 | 1.5145
5209316025 | 1.0309 | 1.5145
5209316035 | 1.0309 | 1.5145
5209316050 | 1.0309 | 1.5145
5209316090 | 1.0309 | 1.5145
5209320020 | 1.0309 | 1.5145
5209320040 | 1.0309 | 1.5145
5209390020 | 1.0309 | 1.5145
5209390040 | 1.0309 | 1.5145
5209390060 | 1.0309 | 1.5145
5209390080 | 1.0309 | 1.5145
5209390090 | 1.0309 | 1.5145
5209413000 | 1.0309 | 1.5145
5209416020 | 1.0309 | 1.5145
5209416040 | 1.0309 | 1.5145
5209420020 | 0.9767 | 1.4349
5209420040 | 0.9767 | 1.4349
5209420060 | 0.9767 | 1.4349
5209420080 | 0.9767 | 1.4349
5209430030 | 1.0309 | 1.5145
5209430050 | 1.0309 | 1.5145
5209490020 | 1.0309 | 1.5145
5209490040 | 1.0309 | 1.5145
5209490090 | 1.0309 | 1.5145
5209513000 | 1.0309 | 1.5145
5209516015 | 1.0852 | 1.5943
5209516025 | 1.0852 | 1.5943
5209516032 | 1.0852 | 1.5943
5209516035 | 1.0852 | 1.5943
5209516050 | 1.0852 | 1.5943
5209516090 | 1.0852 | 1.5943
5209520020 | 1.0852 | 1.5943
5209520040 | 1.0852 | 1.5943
5209590015 | 1.0852 | 1.5943
5209590025 | 1.0852 | 1.5943
5209590040 | 1.0852 | 1.5943
5209590060 | 1.0852 | 1.5943
5209590090 | 1.0852 | 1.5943
5210114020 | 0.6511 | 0.9565
5210114040 | 0.6511 | 0.9565
5210114090 | 0.6511 | 0.9565
5210116020 | 0.6511 | 0.9565
5210116040 | 0.6511 | 0.9565
5210116060 | 0.6511 | 0.9565
5210116090 | 0.6511 | 0.9565
5210118020 | 0.6511 | 0.9565
5210118090 | 0.6511 | 0.9565
5210191000 | 0.6511 | 0.9565
5210192020 | 0.6511 | 0.9565
5210192090 | 0.6511 | 0.9565
5210194020 | 0.6511 | 0.9565
5210194090 | 0.6511 | 0.9565
5210196020 | 0.6511 | 0.9565
5210196090 | 0.6511 | 0.9565
5210198020 | 0.6511 | 0.9565
5210198090 | 0.6511 | 0.9565
5210214020 | 0.6511 | 0.9565
5210214040 | 0.6511 | 0.9565
5210214090 | 0.6511 | 0.9565
5210216020 | 0.6511 | 0.9565
5210216040 | 0.6511 | 0.9565
5210216060 | 0.6511 | 0.9565
5210216090 | 0.6511 | 0.9565
5210218020 | 0.6511 | 0.9565
5210218090 | 0.6511 | 0.9565
5210291000 | 0.6511 | 0.9565
5210292020 | 0.6511 | 0.9565
5210292090 | 0.6511 | 0.9565
5210294020 | 0.6511 | 0.9565
5210294090 | 0.6511 | 0.9565
5210296020 | 0.6511 | 0.9565
5210296090 | 0.6511 | 0.9565
5210298020 | 0.6511 | 0.9565
5210298090 | 0.6511 | 0.9565
5210314020 | 0.6511 | 0.9565
5210314040 | 0.6511 | 0.9565
5210314090 | 0.6511 | 0.9565
5210316020 | 0.6511 | 0.9565
5210316040 | 0.6511 | 0.9565
5210316060 | 0.6511 | 0.9565
5210316090 | 0.6511 | 0.9565
5210318020 | 0.6511 | 0.9565
5210318090 | 0.6511 | 0.9565
5210320000 | 0.6511 | 0.9565
5210392020 | 0.6511 | 0.9565
5210392090 | 0.6511 | 0.9565
5210394020 | 0.6511 | 0.9565
5210394090 | 0.6511 | 0.9565
5210396020 | 0.6511 | 0.9565
5210396090 | 0.6511 | 0.9565
5210398020 | 0.6511 | 0.9565
5210398090 | 0.6511 | 0.9565
5210414000 | 0.6511 | 0.9565
5210416000 | 0.6511 | 0.9565
5210418000 | 0.6511 | 0.9565
5210491000 | 0.6511 | 0.9565
5210492000 | 0.6511 | 0.9565
5210494010 | 0.6511 | 0.9565
5210494020 | 0.6511 | 0.9565
5210494090 | 0.6511 | 0.9565
5210496010 | 0.6511 | 0.9565
5210496020 | 0.6511 | 0.9565
5210496090 | 0.6511 | 0.9565
5210498020 | 0.6511 | 0.9565
5210498090 | 0.6511 | 0.9565
5210514020 | 0.6511 | 0.9565
5210514040 | 0.6511 | 0.9565
5210514090 | 0.6511 | 0.9565
5210516020 | 0.6511 | 0.9565
5210516040 | 0.6511 | 0.9565
5210516060 | 0.6511 | 0.9565
5210516090 | 0.6511 | 0.9565
5210518020 | 0.6511 | 0.9565
5210518090 | 0.6511 | 0.9565
5210591000 | 0.6511 | 0.9565
5210592020 | 0.6511 | 0.9565
5210592090 | 0.6511 | 0.9565
5210594020 | 0.6511 | 0.9565
5210594090 | 0.6511 | 0.9565
5210596020 | 0.6511 | 0.9565
5210596090 | 0.6511 | 0.9565
5210598020 | 0.6511 | 0.9565
5210598090 | 0.6511 | 0.9565
5211110020 | 0.6511 | 0.9565
5211110025 | 0.6511 | 0.9565
5211110035 | 0.6511 | 0.9565
5211110050 | 0.6511 | 0.9565
5211110090 | 0.6511 | 0.9565
5211120020 | 0.6511 | 0.9565
5211120040 | 0.6511 | 0.9565
5211190020 | 0.6511 | 0.9565
5211190040 | 0.6511 | 0.9565
5211190060 | 0.6511 | 0.9565
5211190090 | 0.6511 | 0.9565
5211202120 | 0.6511 | 0.9565
5211202125 | 0.6511 | 0.9565
5211202135 | 0.6511 | 0.9565
5211202150 | 0.6511 | 0.9565
5211202190 | 0.6511 | 0.9565
5211202220 | 0.6511 | 0.9565
5211202240 | 0.6511 | 0.9565
5211202920 | 0.6511 | 0.9565
5211202940 | 0.6511 | 0.9565
5211202960 | 0.6511 | 0.9565
5211202990 | 0.6511 | 0.9565
5211310020 | 0.6511 | 0.9565
5211310025 | 0.6511 | 0.9565
5211310035 | 0.6511 | 0.9565
5211310050 | 0.6511 | 0.9565
5211310090 | 0.6511 | 0.9565
5211320020 | 0.6511 | 0.9565
5211320040 | 0.6511 | 0.9565
5211390020 | 0.6511 | 0.9565
5211390040 | 0.6511 | 0.9565
5211390060 | 0.6511 | 0.9565
5211390090 | 0.6511 | 0.9565
5211410020 | 0.6511 | 0.9565
5211410040 | 0.6511 | 0.9565
5211420020 | 0.7054 | 1.0363
5211420040 | 0.7054 | 1.0363
5211420060 | 0.6511 | 0.9565
5211420080 | 0.6511 | 0.9565
5211430030 | 0.6511 | 0.9565
5211430050 | 0.6511 | 0.9565
5211490020 | 0.6511 | 0.9565
5211490090 | 0.6511 | 0.9565
5211510020 | 0.6511 | 0.9565
5211510030 | 0.6511 | 0.9565
5211510050 | 0.6511 | 0.9565
5211510090 | 0.6511 | 0.9565
5211520020 | 0.6511 | 0.9565
5211520040 | 0.6511 | 0.9565
5211590015 | 0.6511 | 0.9565
5211590025 | 0.6511 | 0.9565
5211590040 | 0.6511 | 0.9565
5211590060 | 0.6511 | 0.9565
5211590090 | 0.6511 | 0.9565
5212111010 | 0.5845 | 0.8587
5212111020 | 0.6231 | 0.9154
5212116010 | 0.8681 | 1.2753
5212116020 | 0.8681 | 1.2753
5212116030 | 0.8681 | 1.2753
5212116040 | 0.8681 | 1.2753
5212116050 | 0.8681 | 1.2753
5212116060 | 0.8681 | 1.2753
5212116070 | 0.8681 | 1.2753
5212116080 | 0.8681 | 1.2753
5212116090 | 0.8681 | 1.2753
5212121010 | 0.5845 | 0.8587
5212121020 | 0.6231 | 0.9154
5212126010 | 0.8681 | 1.2753
5212126020 | 0.8681 | 1.2753
5212126030 | 0.8681 | 1.2753
5212126040 | 0.8681 | 1.2753
5212126050 | 0.8681 | 1.2753
5212126060 | 0.8681 | 1.2753
5212126070 | 0.8681 | 1.2753
5212126080 | 0.8681 | 1.2753
5212126090 | 0.8681 | 1.2753
5212131010 | 0.5845 | 0.8587
5212131020 | 0.6231 | 0.9154
5212136010 | 0.8681 | 1.2753
5212136020 | 0.8681 | 1.2753
5212136030 | 0.8681 | 1.2753
5212136040 | 0.8681 | 1.2753
5212136050 | 0.8681 | 1.2753
5212136060 | 0.8681 | 1.2753
5212136070 | 0.8681 | 1.2753
5212136080 | 0.8681 | 1.2753
5212136090 | 0.8681 | 1.2753
5212141010 | 0.5845 | 0.8587
5212141020 | 0.6231 | 0.9154
5212146010 | 0.8681 | 1.2753
5212146020 | 0.8681 | 1.2753
5212146030 | 0.8681 | 1.2753
5212146090 | 0.8681 | 1.2753
5212151010 | 0.5845 | 0.8587
5212151020 | 0.6231 | 0.9154
5212156010 | 0.8681 | 1.2753
5212156020 | 0.8681 | 1.2753
5212156030 | 0.8681 | 1.2753
5212156040 | 0.8681 | 1.2753
5212156050 | 0.8681 | 1.2753
5212156060 | 0.8681 | 1.2753
5212156070 | 0.8681 | 1.2753
5212156080 | 0.8681 | 1.2753
5212156090 | 0.8681 | 1.2753
5212211010 | 0.5845 | 0.8587
5212211020 | 0.6231 | 0.9154
5212216010 | 0.8681 | 1.2753
5212216020 | 0.8681 | 1.2753
5212216030 | 0.8681 | 1.2753
5212216040 | 0.8681 | 1.2753
5212216050 | 0.8681 | 1.2753
5212216060 | 0.8681 | 1.2753
5212216090 | 0.8681 | 1.2753
5212221010 | 0.5845 | 0.8587
5212221020 | 0.6231 | 0.9154
5212226010 | 0.8681 | 1.2753
5212226020 | 0.8681 | 1.2753
5212226030 | 0.8681 | 1.2753
5212226040 | 0.8681 | 1.2753
5212226050 | 0.8681 | 1.2753
5212226060 | 0.8681 | 1.2753
5212226090 | 0.8681 | 1.2753
5212231010 | 0.5845 | 0.8587
5212231020 | 0.6231 | 0.9154
5212236010 | 0.8681 | 1.2753
5212236020 | 0.8681 | 1.2753
5212236030 | 0.8681 | 1.2753
5212236040 | 0.8681 | 1.2753
5212236050 | 0.8681 | 1.2753
5212236060 | 0.8681 | 1.2753
5212236090 | 0.8681 | 1.2753
5212241010 | 0.5845 | 0.8587
5212241020 | 0.6231 | 0.9154
5212246010 | 0.8681 | 1.2753
5212246020 | 0.7054 | 1.0363
5212246030 | 0.8681 | 1.2753
5212246040 | 0.8681 | 1.2753
5212246090 | 0.8681 | 1.2753
5212251010 | 0.5845 | 0.8587
5212251020 | 0.6231 | 0.9154
5212256010 | 0.8681 | 1.2753
5212256020 | 0.8681 | 1.2753
5212256030 | 0.8681 | 1.2753
5212256040 | 0.8681 | 1.2753
5212256050 | 0.8681 | 1.2753
5212256060 | 0.8681 | 1.2753
5212256090 | 0.8681 | 1.2753
5309213005 | 0.5426 | 0.7971
5309213010 | 0.5426 | 0.7971
5309213015 | 0.5426 | 0.7971
5309213020 | 0.5426 | 0.7971
5309214010 | 0.2713 | 0.3986
5309214090 | 0.2713 | 0.3986
5309293005 | 0.5426 | 0.7971
5309293010 | 0.5426 | 0.7971
5309293015 | 0.5426 | 0.7971
5309293020 | 0.5426 | 0.7971
5309294010 | 0.2713 | 0.3986
5309294090 | 0.2713 | 0.3986
5311003005 | 0.5426 | 0.7971
5311003010 | 0.5426 | 0.7971
5311003015 | 0.5426 | 0.7971
5311003020 | 0.5426 | 0.7971
5407810010 | 0.5426 | 0.7971
5407810020 | 0.5426 | 0.7971
5407810030 | 0.5426 | 0.7971
5407810040 | 0.5426 | 0.7971
5407810090 | 0.5426 | 0.7971
5407820010 | 0.5426 | 0.7971
5407820020 | 0.5426 | 0.7971
5407820030 | 0.5426 | 0.7971
5407820040 | 0.5426 | 0.7971
5407820090 | 0.5426 | 0.7971
5407830010 | 0.5426 | 0.7971
5407830020 | 0.5426 | 0.7971
5407830030 | 0.5426 | 0.7971
5407830040 | 0.5426 | 0.7971
5407830090 | 0.5426 | 0.7971
5407840010 | 0.5426 | 0.7971
5407840020 | 0.5426 | 0.7971
5407840030 | 0.5426 | 0.7971
5407840040 | 0.5426 | 0.7971
5407840090 | 0.5426 | 0.7971
5509210000 | 0.1053 | 0.1547
5509220010 | 0.1053 | 0.1547
5509220090 | 0.1053 | 0.1547
5509530030 | 0.3158 | 0.4639
5509530060 | 0.3158 | 0.4639
5509620000 | 0.5263 | 0.7732
5509920000 | 0.5263 | 0.7732
5510300000 | 0.3684 | 0.5412
5511200000 | 0.3158 | 0.4639
5512110010 | 0.1085 | 0.1594
5512110022 | 0.1085 | 0.1594
5512110027 | 0.1085 | 0.1594
5512110030 | 0.1085 | 0.1594
5512110040 | 0.1085 | 0.1594
5512110050 | 0.1085 | 0.1594
5512110060 | 0.1085 | 0.1594
5512110070 | 0.1085 | 0.1594
5512110090 | 0.1085 | 0.1594
5512190005 | 0.1085 | 0.1594
5512190010 | 0.1085 | 0.1594
5512190015 | 0.1085 | 0.1594
5512190022 | 0.1085 | 0.1594
5512190027 | 0.1085 | 0.1594
5512190030 | 0.1085 | 0.1594
5512190035 | 0.1085 | 0.1594
5512190040 | 0.1085 | 0.1594
5512190045 | 0.1085 | 0.1594
5512190050 | 0.1085 | 0.1594
5512190090 | 0.1085 | 0.1594
5512210010 | 0.0326 | 0.0479
5512210020 | 0.0326 | 0.0479
5512210030 | 0.0326 | 0.0479
5512210040 | 0.0326 | 0.0479
5512210060 | 0.0326 | 0.0479
5512210070 | 0.0326 | 0.0479
5512210090 | 0.0326 | 0.0479
5512290010 | 0.217 | 0.3188
5512910010 | 0.0543 | 0.0798
5512990005 | 0.0543 | 0.0798
5512990010 | 0.0543 | 0.0798
5512990015 | 0.0543 | 0.0798
5512990020 | 0.0543 | 0.0798
5512990025 | 0.0543 | 0.0798
5512990030 | 0.0543 | 0.0798
5512990035 | 0.0543 | 0.0798
5512990040 | 0.0543 | 0.0798
5512990045 | 0.0543 | 0.0798
5512990090 | 0.0543 | 0.0798
5513110020 | 0.3581 | 0.5261
5513110040 | 0.3581 | 0.5261
5513110060 | 0.3581 | 0.5261
5513110090 | 0.3581 | 0.5261
5513120000 | 0.3581 | 0.5261
5513130020 | 0.3581 | 0.5261
5513130040 | 0.3581 | 0.5261
5513130090 | 0.3581 | 0.5261
5513190010 | 0.3581 | 0.5261
5513190020 | 0.3581 | 0.5261
5513190030 | 0.3581 | 0.5261
5513190040 | 0.3581 | 0.5261
5513190050 | 0.3581 | 0.5261
5513190060 | 0.3581 | 0.5261
5513190090 | 0.3581 | 0.5261
5513210020 | 0.3581 | 0.5261
5513210040 | 0.3581 | 0.5261
5513210060 | 0.3581 | 0.5261
5513210090 | 0.3581 | 0.5261
5513230121 | 0.3581 | 0.5261
5513230141 | 0.3581 | 0.5261
5513230191 | 0.3581 | 0.5261
5513290010 | 0.3581 | 0.5261
5513290020 | 0.3581 | 0.5261
5513290030 | 0.3581 | 0.5261
5513290040 | 0.3581 | 0.5261
5513290050 | 0.3581 | 0.5261
5513290060 | 0.3581 | 0.5261
5513290090 | 0.3581 | 0.5261
5513310000 | 0.3581 | 0.5261
5513390111 | 0.3581 | 0.5261
5513390115 | 0.3581 | 0.5261
5513390191 | 0.3581 | 0.5261
5513410020 | 0.3581 | 0.5261
5513410040 | 0.3581 | 0.5261
5513410060 | 0.3581 | 0.5261
5513410090 | 0.3581 | 0.5261
5513491000 | 0.3581 | 0.5261
5513492020 | 0.3581 | 0.5261
5513492040 | 0.3581 | 0.5261
5513492090 | 0.3581 | 0.5261
5513499010 | 0.3581 | 0.5261
5513499020 | 0.3581 | 0.5261
5513499030 | 0.3581 | 0.5261
5513499040 | 0.3581 | 0.5261
5513499050 | 0.3581 | 0.5261
5513499060 | 0.3581 | 0.5261
5513499090 | 0.3581 | 0.5261
5514110020 | 0.4341 | 0.6377
5514110030 | 0.4341 | 0.6377
5514110050 | 0.4341 | 0.6377
5514110090 | 0.4341 | 0.6377
5514120020 | 0.4341 | 0.6377
5514120040 | 0.4341 | 0.6377
5514191020 | 0.4341 | 0.6377
5514191040 | 0.4341 | 0.6377
5514191090 | 0.4341 | 0.6377
5514199010 | 0.4341 | 0.6377
5514199020 | 0.4341 | 0.6377
5514199030 | 0.4341 | 0.6377
5514199040 | 0.4341 | 0.6377
5514199090 | 0.4341 | 0.6377
5514210020 | 0.4341 | 0.6377
5514210030 | 0.4341 | 0.6377
5514210050 | 0.4341 | 0.6377
5514210090 | 0.4341 | 0.6377
5514220020 | 0.4341 | 0.6377
5514220040 | 0.4341 | 0.6377
5514230020 | 0.4341 | 0.6377
5514230040 | 0.4341 | 0.6377
5514230090 | 0.4341 | 0.6377
5514290010 | 0.4341 | 0.6377
5514290020 | 0.4341 | 0.6377
5514290030 | 0.4341 | 0.6377
5514290040 | 0.4341 | 0.6377
5514290090 | 0.4341 | 0.6377
5514303100 | 0.4341 | 0.6377
5514303210 | 0.4341 | 0.6377
5514303215 | 0.4341 | 0.6377
5514303280 | 0.4341 | 0.6377
5514303310 | 0.4341 | 0.6377
5514303390 | 0.4341 | 0.6377
5514303910 | 0.4341 | 0.6377
5514303920 | 0.4341 | 0.6377
5514303990 | 0.4341 | 0.6377
5514410020 | 0.4341 | 0.6377
5514410030 | 0.4341 | 0.6377
5514410050 | 0.4341 | 0.6377
5514410090 | 0.4341 | 0.6377
5514420020 | 0.4341 | 0.6377
5514420040 | 0.4341 | 0.6377
5514430020 | 0.4341 | 0.6377
5514430040 | 0.4341 | 0.6377
5514430090 | 0.4341 | 0.6377
5514490010 | 0.4341 | 0.6377
5514490020 | 0.4341 | 0.6377
5514490030 | 0.4341 | 0.6377
5514490040 | 0.4341 | 0.6377
5514490090 | 0.4341 | 0.6377
5515110005 | 0.1085 | 0.1594
5515110010 | 0.1085 | 0.1594
5515110015 | 0.1085 | 0.1594
5515110020 | 0.1085 | 0.1594
5515110025 | 0.1085 | 0.1594
5515110030 | 0.1085 | 0.1594
5515110035 | 0.1085 | 0.1594
5515110040 | 0.1085 | 0.1594
5515110045 | 0.1085 | 0.1594
5515110090 | 0.1085 | 0.1594
5515120010 | 0.1085 | 0.1594
5515120022 | 0.1085 | 0.1594
5515120027 | 0.1085 | 0.1594
5515120030 | 0.1085 | 0.1594
5515120040 | 0.1085 | 0.1594
5515120090 | 0.1085 | 0.1594
5515190005 | 0.1085 | 0.1594
5515190010 | 0.1085 | 0.1594
5515190015 | 0.1085 | 0.1594
5515190020 | 0.1085 | 0.1594
5515190025 | 0.1085 | 0.1594
5515190030 | 0.1085 | 0.1594
5515190035 | 0.1085 | 0.1594
5515190040 | 0.1085 | 0.1594
5515190045 | 0.1085 | 0.1594
5515190090 | 0.1085 | 0.1594
5515290005 | 0.1085 | 0.1594
5515290010 | 0.1085 | 0.1594
5515290015 | 0.1085 | 0.1594
5515290020 | 0.1085 | 0.1594
5515290025 | 0.1085 | 0.1594
5515290030 | 0.1085 | 0.1594
5515290035 | 0.1085 | 0.1594
5515290040 | 0.1085 | 0.1594
5515290045 | 0.1085 | 0.1594
5515290090 | 0.1085 | 0.1594
5515999005 | 0.1085 | 0.1594
5515999010 | 0.1085 | 0.1594
5515999015 | 0.1085 | 0.1594
5515999020 | 0.1085 | 0.1594
5515999025 | 0.1085 | 0.1594
5515999030 | 0.1085 | 0.1594
5515999035 | 0.1085 | 0.1594
5515999040 | 0.1085 | 0.1594
5515999045 | 0.1085 | 0.1594
5515999090 | 0.1085 | 0.1594
5516210010 | 0.1085 | 0.1594
5516210020 | 0.1085 | 0.1594
5516210030 | 0.1085 | 0.1594
5516210040 | 0.1085 | 0.1594
5516210090 | 0.1085 | 0.1594
5516220010 | 0.1085 | 0.1594
5516220020 | 0.1085 | 0.1594
5516220030 | 0.1085 | 0.1594
5516220040 | 0.1085 | 0.1594
5516220090 | 0.1085 | 0.1594
5516230010 | 0.1085 | 0.1594
5516230020 | 0.1085 | 0.1594
5516230030 | 0.1085 | 0.1594
5516230040 | 0.1085 | 0.1594
5516230090 | 0.1085 | 0.1594
5516240010 | 0.1085 | 0.1594
5516240020 | 0.1085 | 0.1594
5516240030 | 0.1085 | 0.1594
5516240040 | 0.1085 | 0.1594
5516240085 | 0.1085 | 0.1594
5516240095 | 0.1085 | 0.1594
5516410010 | 0.3798 | 0.5580
5516410022 | 0.3798 | 0.5580
5516410027 | 0.3798 | 0.5580
5516410030 | 0.3798 | 0.5580
5516410040 | 0.3798 | 0.5580
5516410050 | 0.3798 | 0.5580
5516410060 | 0.3798 | 0.5580
5516410070 | 0.3798 | 0.5580
5516410090 | 0.3798 | 0.5580
5516420010 | 0.3798 | 0.5580
5516420022 | 0.3798 | 0.5580
5516420027 | 0.3798 | 0.5580
5516420030 | 0.3798 | 0.5580
5516420040 | 0.3798 | 0.5580
5516420050 | 0.3798 | 0.5580
5516420060 | 0.3798 | 0.5580
5516420070 | 0.3798 | 0.5580
5516420090 | 0.3798 | 0.5580
5516430010 | 0.217 | 0.3188
5516430015 | 0.3798 | 0.5580
5516430020 | 0.3798 | 0.5580
5516430035 | 0.3798 | 0.5580
5516430080 | 0.3798 | 0.5580
5516440010 | 0.3798 | 0.5580
5516440022 | 0.3798 | 0.5580
5516440027 | 0.3798 | 0.5580
5516440030 | 0.3798 | 0.5580
5516440040 | 0.3798 | 0.5580
5516440050 | 0.3798 | 0.5580
5516440060 | 0.3798 | 0.5580
5516440070 | 0.3798 | 0.5580
5516440090 | 0.3798 | 0.5580
5516910010 | 0.0543 | 0.0798
5516910020 | 0.0543 | 0.0798
5516910030 | 0.0543 | 0.0798
5516910040 | 0.0543 | 0.0798
5516910050 | 0.0543 | 0.0798
5516910060 | 0.0543 | 0.0798
5516910070 | 0.0543 | 0.0798
5516910090 | 0.0543 | 0.0798
5516920010 | 0.0543 | 0.0798
5516920020 | 0.0543 | 0.0798
5516920030 | 0.0543 | 0.0798
5516920040 | 0.0543 | 0.0798
5516920050 | 0.0543 | 0.0798
5516920060 | 0.0543 | 0.0798
5516920070 | 0.0543 | 0.0798
5516920090 | 0.0543 | 0.0798
5516930010 | 0.0543 | 0.0798
5516930020 | 0.0543 | 0.0798
5516930090 | 0.0543 | 0.0798
5516940010 | 0.0543 | 0.0798
5516940020 | 0.0543 | 0.0798
5516940030 | 0.0543 | 0.0798
5516940040 | 0.0543 | 0.0798
5516940050 | 0.0543 | 0.0798
5516940060 | 0.0543 | 0.0798
5516940070 | 0.0543 | 0.0798
5516940090 | 0.0543 | 0.0798
5601210010 | 0.9767 | 1.4349
5601210090 | 0.9767 | 1.4349
5601220010 | 0.1085 | 0.1594
5601220050 | 0.1085 | 0.1594
5601220091 | 0.1085 | 0.1594
5601300000 | 0.3256 | 0.4783
5602101000 | 0.0543 | 0.0798
5602109090 | 0.4341 | 0.6377
5602290000 | 0.4341 | 0.6377
5602909000 | 0.3256 | 0.4783
5603143000 | 0.2713 | 0.3986
5603910010 | 0.0217 | 0.0319
5603910090 | 0.0651 | 0.0956
5603920010 | 0.0217 | 0.0319
5603920070 | 0.0651 | 0.0956
5603920095 | 0.0651 | 0.0956
5603930010 | 0.0217 | 0.0319
5603930090 | 0.0651 | 0.0956
5603941090 | 0.3256 | 0.4783
5603943000 | 0.1628 | 0.2392
5603949010 | 0.0326 | 0.0479
5604100000 | 0.2632 | 0.3867
5604909000 | 0.2105 | 0.3092
5605009000 | 0.1579 | 0.2320
5606000010 | 0.1263 | 0.1855
5606000090 | 0.1263 | 0.1855
5607502500 | 0.1684 | 0.2474
5607909000 | 0.8421 | 1.2371
5608901000 | 1.0526 | 1.5464
5608902300 | 0.6316 | 0.9279
5608902700 | 0.6316 | 0.9279
5608903000 | 0.3158 | 0.4639
5609001000 | 0.8421 | 1.2371
5609004000 | 0.2105 | 0.3092
5701101300 | 0.0526 | 0.0773
5701101600 | 0.0526 | 0.0773
5701104000 | 0.0526 | 0.0773
5701109000 | 0.0526 | 0.0773
5701901010 | 1 | 1.4691
5701901020 | 1 | 1.4691
5701901030 | 0.0526 | 0.0773
5701901090 | 0.0526 | 0.0773
5701902010 | 0.9474 | 1.3918
5701902020 | 0.9474 | 1.3918
5701902030 | 0.0526 | 0.0773
5701902090 | 0.0526 | 0.0773
5702101000 | 0.0447 | 0.0657
5702109010 | 0.0447 | 0.0657
5702109020 | 0.85 | 1.2487
5702109030 | 0.0447 | 0.0657
5702109090 | 0.0447 | 0.0657
5702201000 | 0.0447 | 0.0657
5702311000 | 0.0447 | 0.0657
5702312000 | 0.0895 | 0.1315
5702322000 | 0.0895 | 0.1315
5702391000 | 0.0895 | 0.1315
5702392010 | 0.8053 | 1.1831
5702392090 | 0.0447 | 0.0657
5702411000 | 0.0447 | 0.0657
5702412000 | 0.0447 | 0.0657
5702421000 | 0.0895 | 0.1315
5702422020 | 0.0895 | 0.1315
5702422080 | 0.0895 | 0.1315
5702491020 | 0.8947 | 1.3144
5702491080 | 0.8947 | 1.3144
5702492000 | 0.0895 | 0.1315
5702502000 | 0.0895 | 0.1315
5702504000 | 0.0447 | 0.0657
5702505200 | 0.0895 | 0.1315
5702505600 | 0.85 | 1.2487
5702912000 | 0.0447 | 0.0657
5702913000 | 0.0447 | 0.0657
5702914000 | 0.0447 | 0.0657
5702921000 | 0.0447 | 0.0657
5702929000 | 0.0447 | 0.0657
5702990500 | 0.8947 | 1.3144
5702991500 | 0.8947 | 1.3144
5703291000 | 0.0452 | 0.0664
5703292010 | 0.0452 | 0.0664
5703391000 | 0.0452 | 0.0664
5703900000 | 0.3615 | 0.5311
5705001000 | 0.0452 | 0.0664
5705002005 | 0.0452 | 0.0664
5705002015 | 0.0452 | 0.0664
5705002020 | 0.7682 | 1.1286
5705002030 | 0.0452 | 0.0664
5705002090 | 0.1808 | 0.2656
5801210000 | 0.9767 | 1.4349
5801221000 | 0.9767 | 1.4349
5801229000 | 0.9767 | 1.4349
5801230000 | 0.9767 | 1.4349
5801260010 | 0.7596 | 1.1159
5801260020 | 0.7596 | 1.1159
5801271000 | 0.9767 | 1.4349
5801275010 | 1.0852 | 1.5943
5801275020 | 0.9767 | 1.4349
5801310000 | 0.217 | 0.3188
5801320000 | 0.217 | 0.3188
5801330000 | 0.217 | 0.3188
5801360010 | 0.217 | 0.3188
5801360020 | 0.217 | 0.3188
5802101000 | 1.0309 | 1.5145
5802109000 | 1.0309 | 1.5145
5802200020 | 0.1085 | 0.1594
5802200090 | 0.3256 | 0.4783
5802300030 | 0.4341 | 0.6377
5802300090 | 0.1085 | 0.1594
5803001000 | 1.0852 | 1.5943
5803002000 | 0.8681 | 1.2753
5803003000 | 0.8681 | 1.2753
5803005000 | 0.3256 | 0.4783
5804101000 | 0.4341 | 0.6377
5804109090 | 0.2193 | 0.3222
5804291000 | 0.8772 | 1.2887
5804300020 | 0.3256 | 0.4783
5805001000 | 0.1085 | 0.1594
5805003000 | 1.0852 | 1.5943
5806101000 | 0.8681 | 1.2753
5806103090 | 0.217 | 0.3188
5806200010 | 0.2577 | 0.3786
5806200090 | 0.2577 | 0.3786
5806310000 | 0.8681 | 1.2753
5806393080 | 0.217 | 0.3188
5806400000 | 0.0814 | 0.1196
5807100510 | 0.8681 | 1.2753
5807102010 | 0.8681 | 1.2753
5807900510 | 0.8681 | 1.2753
5807902010 | 0.8681 | 1.2753
5808104000 | 0.217 | 0.3188
5808107000 | 0.217 | 0.3188
5808900010 | 0.4341 | 0.6377
5810100000 | 0.3256 | 0.4783
5810910010 | 0.7596 | 1.1159
5810910020 | 0.7596 | 1.1159
5810921000 | 0.217 | 0.3188
5810929030 | 0.217 | 0.3188
5810929050 | 0.217 | 0.3188
5810929080 | 0.217 | 0.3188
5811002000 | 0.8681 | 1.2753
5901102000 | 0.5643 | 0.8290
5901904000 | 0.8139 | 1.1957
5903101000 | 0.4341 | 0.6377
5903103000 | 0.1085 | 0.1594
5903201000 | 0.4341 | 0.6377
5903203090 | 0.1085 | 0.1594
5903901000 | 0.4341 | 0.6377
5903903090 | 0.1085 | 0.1594
5904901000 | 0.0326 | 0.0479
5905001000 | 0.1085 | 0.1594
5905009000 | 0.1085 | 0.1594
5906100000 | 0.4341 | 0.6377
5906911000 | 0.4341 | 0.6377
5906913000 | 0.1085 | 0.1594
5906991000 | 0.4341 | 0.6377
5906993000 | 0.1085 | 0.1594
5907002500 | 0.3798 | 0.5580
5907003500 | 0.3798 | 0.5580
5907008090 | 0.3798 | 0.5580
5908000000 | 0.7813 | 1.1478
5909001000 | 0.6837 | 1.0044
5909002000 | 0.4883 | 0.7174
5910001010 | 0.3798 | 0.5580
5910001020 | 0.3798 | 0.5580
5910001030 | 0.3798 | 0.5580
5910001060 | 0.3798 | 0.5580
5910001070 | 0.3798 | 0.5580
5910001090 | 0.6837 | 1.0044
5910009000 | 0.5697 | 0.8369
5911101000 | 0.1736 | 0.2550
5911102000 | 0.0434 | 0.0638
5911201000 | 0.4341 | 0.6377
5911310010 | 0.4341 | 0.6377
5911310020 | 0.4341 | 0.6377
5911310030 | 0.4341 | 0.6377
5911310080 | 0.4341 | 0.6377
5911320010 | 0.4341 | 0.6377
5911320020 | 0.4341 | 0.6377
5911320030 | 0.4341 | 0.6377
5911320080 | 0.4341 | 0.6377
5911400100 | 0.5426 | 0.7971
5911900040 | 0.3158 | 0.4639
5911900080 | 0.2105 | 0.3092
6001106000 | 0.1096 | 0.1610
6001210000 | 0.9868 | 1.4497
6001220000 | 0.1096 | 0.1610
6001290000 | 0.1096 | 0.1610
6001910010 | 0.8772 | 1.2887
6001910020 | 0.8772 | 1.2887
6001920010 | 0.0548 | 0.0805
6001920020 | 0.0548 | 0.0805
6001920030 | 0.0548 | 0.0805
6001920040 | 0.0548 | 0.0805
6001999000 | 0.1096 | 0.1610
6002404000 | 0.7401 | 1.0873
6002408020 | 0.1974 | 0.2900
6002408080 | 0.1974 | 0.2900
6002904000 | 0.7895 | 1.1599
6002908020 | 0.1974 | 0.2900
6002908080 | 0.1974 | 0.2900
6003201000 | 0.8772 | 1.2887
6003203000 | 0.8772 | 1.2887
6003301000 | 0.1096 | 0.1610
6003306000 | 0.1096 | 0.1610
6003401000 | 0.1096 | 0.1610
6003406000 | 0.1096 | 0.1610
6003901000 | 0.1096 | 0.1610
6003909000 | 0.1096 | 0.1610
6004100010 | 0.2961 | 0.4350
6004100025 | 0.2961 | 0.4350
6004100085 | 0.2961 | 0.4350
6004902010 | 0.2961 | 0.4350
6004902025 | 0.2961 | 0.4350
6004902085 | 0.2961 | 0.4350
6004909000 | 0.2961 | 0.4350
6005210000 | 0.7127 | 1.0470
6005220000 | 0.7127 | 1.0470
6005230000 | 0.7127 | 1.0470
6005240000 | 0.7127 | 1.0470
6005360010 | 0.1096 | 0.1610
6005360080 | 0.1096 | 0.1610
6005370010 | 0.1096 | 0.1610
6005370080 | 0.1096 | 0.1610
6005380010 | 0.1096 | 0.1610
6005380080 | 0.1096 | 0.1610
6005390010 | 0.1096 | 0.1610
6005390080 | 0.1096 | 0.1610
6005410010 | 0.1096 | 0.1610
6005410080 | 0.1096 | 0.1610
6005420010 | 0.1096 | 0.1610
6005420080 | 0.1096 | 0.1610
6005430010 | 0.1096 | 0.1610
6005430080 | 0.1096 | 0.1610
6005440010 | 0.1096 | 0.1610
6005440080 | 0.1096 | 0.1610
6005909000 | 0.1096 | 0.1610
6006211000 | 1.0965 | 1.6109
6006219020 | 0.7675 | 1.1275
6006219080 | 0.7675 | 1.1275
6006221000 | 1.0965 | 1.6109
6006229020 | 0.7675 | 1.1275
6006229080 | 0.7675 | 1.1275
6006231000 | 1.0965 | 1.6109
6006239020 | 0.7675 | 1.1275
6006239080 | 0.7675 | 1.1275
6006241000 | 1.0965 | 1.6109
6006249020 | 0.7675 | 1.1275
6006249080 | 0.7675 | 1.1275
6006310020 | 0.3289 | 0.4832
6006310040 | 0.3289 | 0.4832
6006310060 | 0.3289 | 0.4832
6006310080 | 0.3289 | 0.4832
6006320020 | 0.3289 | 0.4832
6006320040 | 0.3289 | 0.4832
6006320060 | 0.3289 | 0.4832
6006320080 | 0.3289 | 0.4832
6006330020 | 0.3289 | 0.4832
6006330040 | 0.3289 | 0.4832
6006330060 | 0.3289 | 0.4832
6006330080 | 0.3289 | 0.4832
6006340020 | 0.3289 | 0.4832
6006340040 | 0.3289 | 0.4832
6006340060 | 0.3289 | 0.4832
6006340080 | 0.3289 | 0.4832
6006410025 | 0.3289 | 0.4832
6006410085 | 0.3289 | 0.4832
6006420025 | 0.3289 | 0.4832
6006420085 | 0.3289 | 0.4832
6006430025 | 0.3289 | 0.4832
6006430085 | 0.3289 | 0.4832
6006440025 | 0.3289 | 0.4832
6006440085 | 0.3289 | 0.4832
6006909000 | 0.1096 | 0.1610
6101200010 | 1.02 | 1.4985
6101200020 | 1.02 | 1.4985
6101301000 | 0.2072 | 0.3044
6101900500 | 0.1912 | 0.2809
6101909010 | 0.5737 | 0.8428
6101909030 | 0.51 | 0.7492
6101909060 | 0.255 | 0.3746
6102100000 | 0.255 | 0.3746
6102200010 | 0.9562 | 1.4048
6102200020 | 0.9562 | 1.4048
6102300500 | 0.1785 | 0.2622
6102909005 | 0.5737 | 0.8428
6102909015 | 0.4462 | 0.6555
6102909030 | 0.255 | 0.3746
6103101000 | 0.0637 | 0.0936
6103104000 | 0.1218 | 0.1789
6103105000 | 0.1218 | 0.1789
6103106010 | 0.8528 | 1.2528
6103106015 | 0.8528 | 1.2528
6103106030 | 0.8528 | 1.2528
6103109010 | 0.5482 | 0.8054
6103109020 | 0.5482 | 0.8054
6103109030 | 0.5482 | 0.8054
6103109040 | 0.1218 | 0.1789
6103109050 | 0.1218 | 0.1789
6103109080 | 0.1827 | 0.2684
6103320000 | 0.8722 | 1.2813
6103398010 | 0.7476 | 1.0983
6103398030 | 0.3738 | 0.5491
6103398060 | 0.2492 | 0.3661
6103411010 | 0.3576 | 0.5254
6103411020 | 0.3576 | 0.5254
6103412000 | 0.3576 | 0.5254
6103421020 | 0.8343 | 1.2257
6103421035 | 0.8343 | 1.2257
6103421040 | 0.8343 | 1.2257
6103421050 | 0.8343 | 1.2257
6103421065 | 0.8343 | 1.2257
6103421070 | 0.8343 | 1.2257
6103422010 | 0.8343 | 1.2257
6103422015 | 0.8343 | 1.2257
6103422025 | 0.8343 | 1.2257
6103431520 | 0.2384 | 0.3502
6103431535 | 0.2384 | 0.3502
6103431540 | 0.2384 | 0.3502
6103431550 | 0.2384 | 0.3502
6103431565 | 0.2384 | 0.3502
6103431570 | 0.2384 | 0.3502
6103432020 | 0.2384 | 0.3502
6103432025 | 0.2384 | 0.3502
6103491020 | 0.2437 | 0.3580
6103491060 | 0.2437 | 0.3580
6103492000 | 0.2437 | 0.3580
6103498010 | 0.5482 | 0.8054
6103498014 | 0.3655 | 0.5370
6103498024 | 0.2437 | 0.3580
6103498026 | 0.2437 | 0.3580
6103498034 | 0.5482 | 0.8054
6103498038 | 0.3655 | 0.5370
6103498060 | 0.2437 | 0.3580
6104196010 | 0.8722 | 1.2813
6104196020 | 0.8722 | 1.2813
6104196030 | 0.8722 | 1.2813
6104196040 | 0.8722 | 1.2813
6104198010 | 0.5607 | 0.8237
6104198020 | 0.5607 | 0.8237
6104198030 | 0.5607 | 0.8237
6104198040 | 0.5607 | 0.8237
6104198060 | 0.3738 | 0.5491
6104198090 | 0.2492 | 0.3661
6104220010 | 0.8528 | 1.2528
6104220030 | 0.8528 | 1.2528
6104220040 | 0.8528 | 1.2528
6104220050 | 0.8528 | 1.2528
6104220060 | 0.8528 | 1.2528
6104220080 | 0.731 | 1.0739
6104220090 | 0.8528 | 1.2528
6104320000 | 0.8722 | 1.2813
6104392010 | 0.5607 | 0.8237
6104392030 | 0.3738 | 0.5491
6104392090 | 0.2492 | 0.3661
6104420010 | 0.8528 | 1.2528
6104420020 | 0.8528 | 1.2528
6104499010 | 0.5482 | 0.8054
6104499030 | 0.3655 | 0.5370
6104499060 | 0.2437 | 0.3580
6104520010 | 0.8822 | 1.2960
6104520020 | 0.8822 | 1.2960
6104598010 | 0.5672 | 0.8333
6104598030 | 0.3781 | 0.5555
6104598090 | 0.2521 | 0.3704
6104610010 | 0.2384 | 0.3502
6104610020 | 0.2384 | 0.3502
6104610030 | 0.2384 | 0.3502
6104621010 | 0.7509 | 1.1031
6104621020 | 0.8343 | 1.2257
6104621030 | 0.8343 | 1.2257
6104622006 | 0.7151 | 1.0506
6104622011 | 0.8343 | 1.2257
6104622016 | 0.7151 | 1.0506
6104622021 | 0.8343 | 1.2257
6104622026 | 0.7151 | 1.0506
6104622028 | 0.8343 | 1.2257
6104622030 | 0.8343 | 1.2257
6104622050 | 0.8343 | 1.2257
6104622060 | 0.8343 | 1.2257
6104631020 | 0.2384 | 0.3502
6104631030 | 0.2384 | 0.3502
6104632006 | 0.8343 | 1.2257
6104632011 | 0.8343 | 1.2257
6104632016 | 0.7151 | 1.0506
6104632021 | 0.8343 | 1.2257
6104632026 | 0.3576 | 0.5254
6104632028 | 0.3576 | 0.5254
6104632030 | 0.3576 | 0.5254
6104632050 | 0.7151 | 1.0506
6104632060 | 0.3576 | 0.5254
6104691000 | 0.3655 | 0.5370
6104692030 | 0.3655 | 0.5370
6104692060 | 0.3655 | 0.5370
6104698010 | 0.5482 | 0.8054
6104698014 | 0.3655 | 0.5370
6104698020 | 0.2437 | 0.3580
6104698022 | 0.5482 | 0.8054
6104698026 | 0.3655 | 0.5370
6104698038 | 0.2437 | 0.3580
6104698040 | 0.2437 | 0.3580
6105100010 | 0.9332 | 1.3710
6105100020 | 0.9332 | 1.3710
6105100030 | 0.9332 | 1.3710
6105202010 | 0.2916 | 0.4284
6105202020 | 0.2916 | 0.4284
6105202030 | 0.2916 | 0.4284
6105908010 | 0.5249 | 0.7711
6105908030 | 0.3499 | 0.5140
6105908060 | 0.2333 | 0.3427
6106100010 | 0.9332 | 1.3710
6106100020 | 0.9332 | 1.3710
6106100030 | 0.9332 | 1.3710
6106202010 | 0.2916 | 0.4284
6106202020 | 0.4666 | 0.6855
6106202030 | 0.2916 | 0.4284
6106901500 | 0.0583 | 0.0856
6106902510 | 0.5249 | 0.7711
6106902530 | 0.3499 | 0.5140
6106902550 | 0.2916 | 0.4284
6106903010 | 0.5249 | 0.7711
6106903030 | 0.3499 | 0.5140
6106903040 | 0.2916 | 0.4284
6107110010 | 1.0727 | 1.5759
6107110020 | 1.0727 | 1.5759
6107120010 | 0.4767 | 0.7003
6107120020 | 0.4767 | 0.7003
6107191000 | 0.1192 | 0.1751
6107210010 | 0.8343 | 1.2257
6107210020 | 0.7151 | 1.0506
6107220010 | 0.3576 | 0.5254
6107220015 | 0.1192 | 0.1751
6107220025 | 0.2384 | 0.3502
6107299000 | 0.1788 | 0.2627
6107910030 | 1.1918 | 1.7509
6107910040 | 1.1918 | 1.7509
6107910090 | 0.9535 | 1.4008
6107991030 | 0.3576 | 0.5254
6107991040 | 0.3576 | 0.5254
6107991090 | 0.3576 | 0.5254
6107999000 | 0.1192 | 0.1751
6108199010 | 1.0611 | 1.5589
6108199030 | 0.2358 | 0.3464
6108210010 | 1.179 | 1.7321
6108210020 | 1.179 | 1.7321
6108299000 | 0.3537 | 0.5196
6108310010 | 1.0611 | 1.5589
6108310020 | 1.0611 | 1.5589
6108320010 | 0.2358 | 0.3464
6108320015 | 0.2358 | 0.3464
6108320025 | 0.2358 | 0.3464
6108398000 | 0.3537 | 0.5196
6108910005 | 1.179 | 1.7321
6108910015 | 1.179 | 1.7321
6108910025 | 1.179 | 1.7321
6108910030 | 1.179 | 1.7321
6108910040 | 1.179 | 1.7321
6108920005 | 0.2358 | 0.3464
6108920015 | 0.2358 | 0.3464
6108920025 | 0.2358 | 0.3464
6108920030 | 0.2358 | 0.3464
6108920040 | 0.2358 | 0.3464
6108999000 | 0.3537 | 0.5196
6109100004 | 1.0022 | 1.4723
6109100007 | 1.0022 | 1.4723
6109100011 | 1.0022 | 1.4723
6109100012 | 1.0022 | 1.4723
6109100014 | 1.0022 | 1.4723
6109100018 | 1.0022 | 1.4723
6109100023 | 1.0022 | 1.4723
6109100027 | 1.0022 | 1.4723
6109100037 | 1.0022 | 1.4723
6109100040 | 1.0022 | 1.4723
6109100045 | 1.0022 | 1.4723
6109100060 | 1.0022 | 1.4723
6109100065 | 1.0022 | 1.4723
6109100070 | 1.0022 | 1.4723
6109901007 | 0.2948 | 0.4331
6109901009 | 0.2948 | 0.4331
6109901013 | 0.2948 | 0.4331
6109901025 | 0.2948 | 0.4331
6109901047 | 0.2948 | 0.4331
6109901049 | 0.2948 | 0.4331
6109901050 | 0.2948 | 0.4331
6109901060 | 0.2948 | 0.4331
6109901065 | 0.2948 | 0.4331
6109901070 | 0.2948 | 0.4331
6109901075 | 0.2948 | 0.4331
6109901090 | 0.2948 | 0.4331
6109908010 | 0.3499 | 0.5140
6109908030 | 0.2333 | 0.3427
6110201010 | 0.7476 | 1.0983
6110201020 | 0.7476 | 1.0983
6110201022 | 0.7476 | 1.0983
6110201024 | 0.7476 | 1.0983
6110201026 | 0.7476 | 1.0983
6110201029 | 0.7476 | 1.0983
6110201031 | 0.7476 | 1.0983
6110201033 | 0.7476 | 1.0983
6110202005 | 1.1214 | 1.6474
6110202010 | 1.1214 | 1.6474
6110202015 | 1.1214 | 1.6474
6110202020 | 1.1214 | 1.6474
6110202025 | 1.1214 | 1.6474
6110202030 | 1.1214 | 1.6474
6110202035 | 1.1214 | 1.6474
6110202041 | 1.0965 | 1.6109
6110202044 | 1.0965 | 1.6109
6110202046 | 1.0965 | 1.6109
6110202049 | 1.0965 | 1.6109
6110202067 | 1.0965 | 1.6109
6110202069 | 1.0965 | 1.6109
6110202077 | 1.0965 | 1.6109
6110202079 | 1.0965 | 1.6109
6110909010 | 0.5607 | 0.8237
6110909012 | 0.1246 | 0.1830
6110909014 | 0.3738 | 0.5491
6110909026 | 0.5607 | 0.8237
6110909028 | 0.1869 | 0.2746
6110909030 | 0.3738 | 0.5491
6110909044 | 0.5607 | 0.8237
6110909046 | 0.5607 | 0.8237
6110909052 | 0.3738 | 0.5491
6110909054 | 0.3738 | 0.5491
6110909064 | 0.2492 | 0.3661
6110909066 | 0.2492 | 0.3661
6110909067 | 0.5607 | 0.8237
6110909069 | 0.5607 | 0.8237
6110909071 | 0.5607 | 0.8237
6110909073 | 0.5607 | 0.8237
6110909079 | 0.3738 | 0.5491
6110909080 | 0.3738 | 0.5491
6110909081 | 0.3738 | 0.5491
6110909082 | 0.3738 | 0.5491
6110909088 | 0.2492 | 0.3661
6110909090 | 0.2492 | 0.3661
6111201000 | 1.1918 | 1.7509
6111202000 | 1.1918 | 1.7509
6111203000 | 0.9535 | 1.4008
6111204000 | 0.9535 | 1.4008
6111205000 | 0.9535 | 1.4008
6111206010 | 0.9535 | 1.4008
6111206020 | 0.9535 | 1.4008
6111206030 | 0.9535 | 1.4008
6111206050 | 0.9535 | 1.4008
6111206070 | 0.9535 | 1.4008
6111301000 | 0.2384 | 0.3502
6111302000 | 0.2384 | 0.3502
6111303000 | 0.2384 | 0.3502
6111304000 | 0.2384 | 0.3502
6111305010 | 0.2384 | 0.3502
6111305015 | 0.2384 | 0.3502
6111305020 | 0.2384 | 0.3502
6111305030 | 0.2384 | 0.3502
6111305050 | 0.2384 | 0.3502
6111305070 | 0.2384 | 0.3502
6111901000 | 0.2384 | 0.3502
6111902000 | 0.2384 | 0.3502
6111903000 | 0.2384 | 0.3502
6111904000 | 0.2384 | 0.3502
6111905010 | 0.2384 | 0.3502
6111905020 | 0.2384 | 0.3502
6111905030 | 0.2384 | 0.3502
6111905050 | 0.2384 | 0.3502
6111905070 | 0.2384 | 0.3502
6112110010 | 0.9535 | 1.4008
6112110020 | 0.9535 | 1.4008
6112110030 | 0.9535 | 1.4008
6112110040 | 0.9535 | 1.4008
6112110050 | 0.9535 | 1.4008
6112110060 | 0.9535 | 1.4008
6112120010 | 0.2384 | 0.3502
6112120020 | 0.2384 | 0.3502
6112120030 | 0.2384 | 0.3502
6112120040 | 0.2384 | 0.3502
6112120050 | 0.2384 | 0.3502
6112120060 | 0.2384 | 0.3502
6112191010 | 0.2492 | 0.3661
6112191020 | 0.2492 | 0.3661
6112191030 | 0.2492 | 0.3661
6112191040 | 0.2492 | 0.3661
6112191050 | 0.2492 | 0.3661
6112191060 | 0.2492 | 0.3661
6112201060 | 0.2492 | 0.3661
6112201070 | 0.2492 | 0.3661
6112201080 | 0.2492 | 0.3661
6112201090 | 0.2492 | 0.3661
6112202010 | 0.8722 | 1.2813
6112202020 | 0.3738 | 0.5491
6112202030 | 0.2492 | 0.3661
6112310010 | 0.1192 | 0.1751
6112310020 | 0.1192 | 0.1751
6112390010 | 1.0727 | 1.5759
6112410010 | 0.1192 | 0.1751
6112410020 | 0.1192 | 0.1751
6112410030 | 0.1192 | 0.1751
6112410040 | 0.1192 | 0.1751
6112490010 | 0.8939 | 1.3132
6113001005 | 0.1246 | 0.1830
6113001010 | 0.1246 | 0.1830
6113001012 | 0.1246 | 0.1830
6113009015 | 0.3489 | 0.5126
6113009020 | 0.3489 | 0.5126
6113009038 | 0.3489 | 0.5126
6113009042 | 0.3489 | 0.5126
6113009055 | 0.3489 | 0.5126
6113009060 | 0.3489 | 0.5126
6113009074 | 0.3489 | 0.5126
6113009082 | 0.3489 | 0.5126
6114200005 | 0.9747 | 1.4319
6114200010 | 0.9747 | 1.4319
6114200015 | 0.8528 | 1.2528
6114200020 | 0.8528 | 1.2528
6114200035 | 0.8528 | 1.2528
6114200040 | 0.8528 | 1.2528
6114200042 | 0.3655 | 0.5370
6114200044 | 0.8528 | 1.2528
6114200046 | 0.8528 | 1.2528
6114200048 | 0.8528 | 1.2528
6114200052 | 0.8528 | 1.2528
6114200055 | 0.8528 | 1.2528
6114200060 | 0.8528 | 1.2528
6114301010 | 0.2437 | 0.3580
6114301020 | 0.2437 | 0.3580
6114302060 | 0.1218 | 0.1789
6114303014 | 0.2437 | 0.3580
6114303020 | 0.2437 | 0.3580
6114303030 | 0.2437 | 0.3580
6114303042 | 0.2437 | 0.3580
6114303044 | 0.2437 | 0.3580
6114303052 | 0.2437 | 0.3580
6114303054 | 0.2437 | 0.3580
6114303060 | 0.2437 | 0.3580
6114303070 | 0.2437 | 0.3580
6114909045 | 0.5482 | 0.8054
6114909055 | 0.3655 | 0.5370
6114909070 | 0.3655 | 0.5370
6115100500 | 0.4386 | 0.6443
6115101510 | 1.0965 | 1.6109
6115103000 | 0.9868 | 1.4497
6115106000 | 0.1096 | 0.1610
6115298010 | 1.0965 | 1.6109
6115309030 | 0.7675 | 1.1275
6115956000 | 0.9868 | 1.4497
6115959000 | 0.9868 | 1.4497
6115966020 | 0.2193 | 0.3222
6115991420 | 0.2193 | 0.3222
6115991920 | 0.2193 | 0.3222
6115999000 | 0.1096 | 0.1610
6116101300 | 0.3463 | 0.5087
6116101720 | 0.8079 | 1.1869
6116104810 | 0.4444 | 0.6529
6116105510 | 0.6464 | 0.9496
6116107510 | 0.6464 | 0.9496
6116109500 | 0.1616 | 0.2374
6116920500 | 0.8079 | 1.1869
6116920800 | 0.8079 | 1.1869
6116926410 | 1.0388 | 1.5261
6116926420 | 1.0388 | 1.5261
6116926430 | 1.1542 | 1.6956
6116926440 | 1.0388 | 1.5261
6116927450 | 1.0388 | 1.5261
6116927460 | 1.1542 | 1.6956
6116927470 | 1.0388 | 1.5261
6116928800 | 1.0388 | 1.5261
6116929400 | 1.0388 | 1.5261
6116938800 | 0.1154 | 0.1695
6116939400 | 0.1154 | 0.1695
6116994800 | 0.1154 | 0.1695
6116995400 | 0.1154 | 0.1695
6116999510 | 0.4617 | 0.6783
6116999530 | 0.3463 | 0.5087
6117106010 | 0.9234 | 1.3566
6117106020 | 0.2308 | 0.3391
6117808500 | 0.9234 | 1.3566
6117808710 | 1.1542 | 1.6956
6117808770 | 0.1731 | 0.2543
6117809510 | 0.9234 | 1.3566
6117809540 | 0.3463 | 0.5087
6117809570 | 0.1731 | 0.2543
6117909003 | 1.1542 | 1.6956
6117909015 | 0.2308 | 0.3391
6117909020 | 1.1542 | 1.6956
6117909040 | 1.1542 | 1.6956
6117909060 | 1.1542 | 1.6956
6117909080 | 1.1542 | 1.6956
6201301200 | 0.8981 | 1.3194
6201302010 | 1.0602 | 1.5575
6201302020 | 1.0602 | 1.5575
6201302025 | 1.2473 | 1.8324
6201302035 | 1.2473 | 1.8324
6201302050 | 0.8108 | 1.1911
6201302060 | 0.8108 | 1.1911
6201303000 | 0.6486 | 0.9529
6201304000 | 0.8108 | 1.1911
6201305005 | 0.8108 | 1.1911
6201305010 | 0.8108 | 1.1911
6201305021 | 1.2473 | 1.8324
6201305031 | 1.2473 | 1.8324
6201305041 | 1.2473 | 1.8324
6201305051 | 0.8108 | 1.1911
6201305061 | 0.8108 | 1.1911
6201306000 | 0.6486 | 0.9529
6201307000 | 0.8108 | 1.1911
6201308005 | 0.8108 | 1.1911
6201308010 | 0.8108 | 1.1911
6201308021 | 1.2473 | 1.8324
6201308031 | 1.2473 | 1.8324
6201308041 | 1.2473 | 1.8324
6201308051 | 0.8108 | 1.1911
6201308061 | 0.8108 | 1.1911
6201402015 | 0.2495 | 0.3665
6201402020 | 0.2495 | 0.3665
6201402030 | 0.3118 | 0.4581
6201402040 | 0.3118 | 0.4581
6201404500 | 0.3118 | 0.4581
6201405011 | 0.3118 | 0.4581
6201405021 | 0.3118 | 0.4581
6201407000 | 0.3118 | 0.4581
6201407511 | 0.3118 | 0.4581
6201407521 | 0.3118 | 0.4581
6201902910 | 0.5613 | 0.8246
6201902930 | 0.3742 | 0.5497
6201902960 | 0.3742 | 0.5497
6201904910 | 0.5613 | 0.8246
6201904930 | 0.3742 | 0.5497
6201904960 | 0.3742 | 0.5497
6201906910 | 0.5613 | 0.8246
6201906930 | 0.3742 | 0.5497
6201906960 | 0.3742 | 0.5497
6202301200 | 0.8879 | 1.3044
6202302010 | 1.0482 | 1.5399
6202302020 | 1.0482 | 1.5399
6202302025 | 1.2332 | 1.8117
6202302035 | 1.2332 | 1.8117
6202302050 | 0.8016 | 1.1776
6202302060 | 0.8016 | 1.1776
6202303000 | 0.9865 | 1.4493
6202304000 | 0.9865 | 1.4493
6202305010 | 0.9865 | 1.4493
6202305020 | 0.9865 | 1.4493
6202305026 | 1.2332 | 1.8117
6202305031 | 1.2332 | 1.8117
6202305061 | 0.9865 | 1.4493
6202305071 | 0.9865 | 1.4493
6202306000 | 0.9865 | 1.4493
6202307000 | 0.9865 | 1.4493
6202308010 | 0.9865 | 1.4493
6202308020 | 0.9865 | 1.4493
6202308026 | 1.2332 | 1.8117
6202308031 | 1.2332 | 1.8117
6202308061 | 0.9865 | 1.4493
6202308071 | 0.9865 | 1.4493
6202402005 | 0.2524 | 0.3708
6202402010 | 0.2524 | 0.3708
6202402020 | 0.3155 | 0.4635
6202402030 | 0.3155 | 0.4635
6202402500 | 0.2960 | 0.4349
6202403510 | 0.2466 | 0.3623
6202403520 | 0.2466 | 0.3623
6202405011 | 0.2466 | 0.3623
6202405021 | 0.2466 | 0.3623
6202405500 | 0.2960 | 0.4349
6202406010 | 0.2466 | 0.3623
6202406020 | 0.2466 | 0.3623
6202407511 | 0.2466 | 0.3623
6202407521 | 0.2466 | 0.3623
6202902910 | 0.5678 | 0.8342
6202902930 | 0.3786 | 0.5562
6202902960 | 0.2524 | 0.3708
6202904911 | 0.5549 | 0.8152
6202904931 | 0.3700 | 0.5436
6202904961 | 0.2466 | 0.3623
6202906911 | 0.5549 | 0.8152
6202906931 | 0.3700 | 0.5436
6202906961 | 0.2466 | 0.3623
6203122010 | 0.1233 | 0.1811
6203122020 | 0.1233 | 0.1811
6203191010 | 0.9865 | 1.4493
6203191020 | 0.9865 | 1.4493
6203191030 | 0.9865 | 1.4493
6203199010 | 0.5549 | 0.8152
6203199020 | 0.5549 | 0.8152
6203199030 | 0.5549 | 0.8152
6203199050 | 0.37 | 0.5436
6203199080 | 0.2466 | 0.3623
6203221000 | 1.2332 | 1.8117
6203321000 | 0.6782 | 0.9963
6203322010 | 1.1715 | 1.7211
6203322020 | 1.1715 | 1.7211
6203322030 | 1.1715 | 1.7211
6203322040 | 1.1715 | 1.7211
6203322050 | 1.1715 | 1.7211
6203332010 | 0.1233 | 0.1811
6203332020 | 0.1233 | 0.1811
6203392010 | 0.1233 | 0.1811
6203392020 | 0.1233 | 0.1811
6203399010 | 0.5549 | 0.8152
6203399030 | 0.37 | 0.5436
6203399060 | 0.2466 | 0.3623
6203420300 | 1.0616 | 1.5596
6203420505 | 0.7077 | 1.0397
6203420510 | 0.9436 | 1.3862
6203420525 | 0.9436 | 1.3862
6203420550 | 0.9436 | 1.3862
6203420590 | 0.9436 | 1.3862
6203420703 | 1.0616 | 1.5596
6203420706 | 1.1796 | 1.7330
6203420711 | 1.1796 | 1.7330
6203420716 | 0.9436 | 1.3862
6203420721 | 1.1796 | 1.7330
6203420726 | 1.1796 | 1.7330
6203420731 | 1.1796 | 1.7330
6203420736 | 1.1796 | 1.7330
6203420741 | 0.9436 | 1.3862
6203420746 | 0.9436 | 1.3862
6203420751 | 0.8752 | 1.2858
6203420756 | 0.8752 | 1.2858
6203420761 | 0.8752 | 1.2858
6203421700 | 1.0616 | 1.5596
6203422505 | 0.7077 | 1.0397
6203422510 | 0.9436 | 1.3862
6203422525 | 0.9436 | 1.3862
6203422550 | 0.9436 | 1.3862
6203422590 | 0.9436 | 1.3862
6203424503 | 1.0616 | 1.5596
6203424506 | 1.1796 | 1.7330
6203424511 | 1.1796 | 1.7330
6203424516 | 0.9436 | 1.3862
6203424521 | 1.1796 | 1.7330
6203424526 | 1.1796 | 1.7330
6203424531 | 1.1796 | 1.7330
6203424536 | 1.1796 | 1.7330
6203424541 | 0.9436 | 1.3862
6203424546 | 0.9436 | 1.3862
6203424551 | 0.8752 | 1.2858
6203424556 | 0.8752 | 1.2858
6203424561 | 0.8752 | 1.2858
6203430100 | 0.1887 | 0.2772
6203430300 | 0.118 | 0.1734
6203430505 | 0.118 | 0.1734
6203430510 | 0.2359 | 0.3466
6203430525 | 0.2359 | 0.3466
6203430550 | 0.2359 | 0.3466
6203430590 | 0.2359 | 0.3466
6203431110 | 0.059 | 0.0867
6203431190 | 0.059 | 0.0867
6203431310 | 0.1167 | 0.1714
6203431315 | 0.1167 | 0.1714
6203431320 | 0.1167 | 0.1714
6203431330 | 0.1167 | 0.1714
6203431335 | 0.1167 | 0.1714
6203431340 | 0.1167 | 0.1714
6203434500 | 0.1887 | 0.2772
6203435500 | 0.118 | 0.1734
6203436005 | 0.118 | 0.1734
6203436010 | 0.2359 | 0.3466
6203436025 | 0.2359 | 0.3466
6203436050 | 0.2359 | 0.3466
6203436090 | 0.2359 | 0.3466
6203436500 | 0.4128 | 0.6064
6203437510 | 0.059 | 0.0867
6203437590 | 0.059 | 0.0867
6203439010 | 0.1167 | 0.1714
6203439015 | 0.1167 | 0.1714
6203439020 | 0.1167 | 0.1714
6203439030 | 0.1167 | 0.1714
6203439035 | 0.1167 | 0.1714
6203439040 | 0.1167 | 0.1714
6203490105 | 0.118 | 0.1734
6203490110 | 0.2359 | 0.3466
6203490125 | 0.2359 | 0.3466
6203490150 | 0.2359 | 0.3466
6203490190 | 0.2359 | 0.3466
6203490515 | 0.2359 | 0.3466
6203490520 | 0.2359 | 0.3466
6203490530 | 0.118 | 0.1734
6203490545 | 0.118 | 0.1734
6203490550 | 0.118 | 0.1734
6203490560 | 0.118 | 0.1734
6203490920 | 0.5308 | 0.7798
6203490930 | 0.3539 | 0.5199
6203490945 | 0.2359 | 0.3466
6203492505 | 0.118 | 0.1734
6203492510 | 0.2359 | 0.3466
6203492525 | 0.2359 | 0.3466
6203492550 | 0.2359 | 0.3466
6203492590 | 0.2359 | 0.3466
6203493500 | 0.4128 | 0.6064
6203495015 | 0.2359 | 0.3466
6203495020 | 0.2359 | 0.3466
6203495030 | 0.118 | 0.1734
6203495045 | 0.118 | 0.1734
6203495050 | 0.118 | 0.1734
6203495060 | 0.118 | 0.1734
6203499020 | 0.5308 | 0.7798
6203499030 | 0.3539 | 0.5199
6203499045 | 0.2359 | 0.3466
6204110000 | 0.0617 | 0.0906
6204120010 | 0.9865 | 1.4493
6204120020 | 0.9865 | 1.4493
6204120030 | 0.9865 | 1.4493
6204120040 | 0.9865 | 1.4493
6204132010 | 0.1233 | 0.1811
6204132020 | 0.1233 | 0.1811
6204192000 | 0.1233 | 0.1811
6204198010 | 0.5549 | 0.8152
6204198020 | 0.5549 | 0.8152
6204198030 | 0.5549 | 0.8152
6204198040 | 0.5549 | 0.8152
6204198060 | 0.3083 | 0.4529
6204198090 | 0.2466 | 0.3623
6204221000 | 1.2332 | 1.8117
6204223010 | 0.9865 | 1.4493
6204223030 | 0.9865 | 1.4493
6204223040 | 0.9865 | 1.4493
6204223050 | 0.9865 | 1.4493
6204223060 | 0.9865 | 1.4493
6204223065 | 0.9865 | 1.4493
6204223070 | 0.9865 | 1.4493
6204294010 | 0.5549 | 0.8152
6204294022 | 0.5549 | 0.8152
6204294034 | 0.5549 | 0.8152
6204294070 | 0.5549 | 0.8152
6204294082 | 0.5549 | 0.8152
6204321000 | 0.6782 | 0.9963
6204322010 | 1.1715 | 1.7211
6204322020 | 1.1715 | 1.7211
6204322030 | 0.9865 | 1.4493
6204322040 | 0.9865 | 1.4493
6204398010 | 0.5549 | 0.8152
6204398030 | 0.3083 | 0.4529
6204412010 | 0.0603 | 0.0886
6204412020 | 0.0603 | 0.0886
6204421000 | 1.2058 | 1.7714
6204422000 | 0.6632 | 0.9743
6204423010 | 1.2058 | 1.7714
6204423020 | 1.2058 | 1.7714
6204423030 | 0.9043 | 1.3285
6204423040 | 0.9043 | 1.3285
6204423050 | 0.9043 | 1.3285
6204423060 | 0.9043 | 1.3285
6204431000 | 0.4823 | 0.7085
6204432000 | 0.0603 | 0.0886
6204442000 | 0.4316 | 0.6341
6204495010 | 0.5549 | 0.8152
6204495030 | 0.2466 | 0.3623
6204510010 | 0.0631 | 0.0927
6204510020 | 0.0631 | 0.0927
6204521000 | 1.2618 | 1.8537
6204522010 | 1.1988 | 1.7612
6204522020 | 1.1988 | 1.7612
6204522030 | 1.1988 | 1.7612
6204522040 | 1.1988 | 1.7612
6204522070 | 1.0095 | 1.4831
6204522080 | 1.0095 | 1.4831
6204531000 | 0.4416 | 0.6488
6204532010 | 0.0631 | 0.0927
6204532020 | 0.0631 | 0.0927
6204533010 | 0.2524 | 0.3708
6204533020 | 0.2524 | 0.3708
6204591000 | 0.4416 | 0.6488
6204594010 | 0.5678 | 0.8342
6204594030 | 0.2524 | 0.3708
6204594060 | 0.2524 | 0.3708
6204610510 | 0.059 | 0.0867
6204610520 | 0.059 | 0.0867
6204611510 | 0.059 | 0.0867
6204611520 | 0.059 | 0.0867
6204611530 | 0.059 | 0.0867
6204611540 | 0.118 | 0.1734
6204616010 | 0.059 | 0.0867
6204616020 | 0.059 | 0.0867
6204618010 | 0.059 | 0.0867
6204618020 | 0.059 | 0.0867
6204618030 | 0.059 | 0.0867
6204618040 | 0.118 | 0.1734
6204620300 | 0.8681 | 1.2753
6204620505 | 0.7077 | 1.0397
6204620510 | 0.9436 | 1.3862
6204620525 | 0.9436 | 1.3862
6204620550 | 0.9436 | 1.3862
6204621503 | 1.0616 | 1.5596
6204621506 | 1.1796 | 1.7330
6204621511 | 1.1796 | 1.7330
6204621521 | 0.9436 | 1.3862
6204621526 | 1.1796 | 1.7330
6204621531 | 1.1796 | 1.7330
6204621536 | 1.1796 | 1.7330
6204621541 | 1.1796 | 1.7330
6204621546 | 0.9436 | 1.3862
6204621551 | 0.9436 | 1.3862
6204621556 | 0.9335 | 1.3714
6204621561 | 0.9335 | 1.3714
6204621566 | 0.9335 | 1.3714
6204625000 | 0.8681 | 1.2753
6204626005 | 0.7077 | 1.0397
6204626010 | 0.9436 | 1.3862
6204626025 | 0.9436 | 1.3862
6204626050 | 0.9436 | 1.3862
6204627000 | 1.1796 | 1.7330
6204628003 | 1.0616 | 1.5596
6204628006 | 1.1796 | 1.7330
6204628011 | 1.1796 | 1.7330
6204628021 | 0.9436 | 1.3862
6204628026 | 1.1796 | 1.7330
6204628031 | 1.1796 | 1.7330
6204628036 | 1.1796 | 1.7330
6204628041 | 1.1796 | 1.7330
6204628046 | 0.9436 | 1.3862
6204628051 | 0.9436 | 1.3862
6204628056 | 0.9335 | 1.3714
6204628061 | 0.9335 | 1.3714
6204628066 | 0.9335 | 1.3714
6204630100 | 0.2019 | 0.2966
6204630200 | 0.118 | 0.1734
6204630305 | 0.118 | 0.1734
6204630310 | 0.2359 | 0.3466
6204630325 | 0.2359 | 0.3466
6204630350 | 0.2359 | 0.3466
6204630810 | 0.059 | 0.0867
6204630820 | 0.059 | 0.0867
6204630910 | 0.0603 | 0.0886
6204630990 | 0.0603 | 0.0886
6204631110 | 0.2412 | 0.3543
6204631125 | 0.2412 | 0.3543
6204631130 | 0.2412 | 0.3543
6204631132 | 0.2309 | 0.3392
6204631135 | 0.2309 | 0.3392
6204631140 | 0.2309 | 0.3392
6204635000 | 0.2019 | 0.2966
6204635500 | 0.118 | 0.1734
6204636005 | 0.118 | 0.1734
6204636010 | 0.2359 | 0.3466
6204636025 | 0.2359 | 0.3466
6204636050 | 0.2359 | 0.3466
6204636500 | 0.4718 | 0.6931
6204637010 | 0.059 | 0.0867
6204637020 | 0.059 | 0.0867
6204637510 | 0.0603 | 0.0886
6204637590 | 0.0603 | 0.0886
6204639010 | 0.2412 | 0.3543
6204639025 | 0.2412 | 0.3543
6204639030 | 0.2412 | 0.3543
6204639032 | 0.2309 | 0.3392
6204639035 | 0.2309 | 0.3392
6204639040 | 0.2309 | 0.3392
6204690105 | 0.118 | 0.1734
6204690110 | 0.2359 | 0.3466
6204690125 | 0.2359 | 0.3466
6204690150 | 0.2359 | 0.3466
6204690210 | 0.059 | 0.0867
6204690220 | 0.059 | 0.0867
6204690230 | 0.059 | 0.0867
6204690310 | 0.2359 | 0.3466
6204690320 | 0.2359 | 0.3466
6204690330 | 0.2359 | 0.3466
6204690340 | 0.2309 | 0.3392
6204690350 | 0.2309 | 0.3392
6204690360 | 0.2309 | 0.3392
6204690510 | 0.5308 | 0.7798
6204690530 | 0.2359 | 0.3466
6204690570 | 0.3539 | 0.5199
6204690610 | 0.5308 | 0.7798
6204690630 | 0.2359 | 0.3466
6204690644 | 0.2359 | 0.3466
6204690646 | 0.2359 | 0.3466
6204690650 | 0.3539 | 0.5199
6204691505 | 0.118 | 0.1734
6204691510 | 0.2359 | 0.3466
6204691525 | 0.2359 | 0.3466
6204691550 | 0.2359 | 0.3466
6204692210 | 0.059 | 0.0867
6204692220 | 0.059 | 0.0867
6204692230 | 0.059 | 0.0867
6204692810 | 0.2359 | 0.3466
6204692820 | 0.2359 | 0.3466
6204692830 | 0.2359 | 0.3466
6204692840 | 0.2309 | 0.3392
6204692850 | 0.2309 | 0.3392
6204692860 | 0.2309 | 0.3392
6204696510 | 0.5308 | 0.7798
6204696530 | 0.2359 | 0.3466
6204696570 | 0.3539 | 0.5199
6204698010 | 0.5308 | 0.7798
6204698030 | 0.2359 | 0.3466
6204698044 | 0.2359 | 0.3466
6204698046 | 0.2359 | 0.3466
6204698050 | 0.3539 | 0.5199
6205201000 | 1.1796 | 1.7330
6205202003 | 0.9436 | 1.3862
6205202016 | 0.9436 | 1.3862
6205202021 | 0.9436 | 1.3862
6205202026 | 0.9436 | 1.3862
6205202031 | 0.9436 | 1.3862
6205202036 | 1.0616 | 1.5596
6205202041 | 1.0616 | 1.5596
6205202044 | 1.0616 | 1.5596
6205202047 | 0.9436 | 1.3862
6205202051 | 0.9436 | 1.3862
6205202056 | 0.9436 | 1.3862
6205202061 | 0.9436 | 1.3862
6205202066 | 0.9436 | 1.3862
6205202071 | 0.9436 | 1.3862
6205202076 | 0.9436 | 1.3862
6205301000 | 0.4128 | 0.6064
6205302010 | 0.2949 | 0.4332
6205302020 | 0.2949 | 0.4332
6205302030 | 0.2949 | 0.4332
6205302040 | 0.2949 | 0.4332
6205302050 | 0.2949 | 0.4332
6205302055 | 0.2949 | 0.4332
6205302060 | 0.2949 | 0.4332
6205302070 | 0.2949 | 0.4332
6205302075 | 0.2949 | 0.4332
6205302080 | 0.2949 | 0.4332
6205900710 | 0.118 | 0.1734
6205900720 | 0.118 | 0.1734
6205901000 | 0.2359 | 0.3466
6205903010 | 0.5308 | 0.7798
6205903030 | 0.2359 | 0.3466
6205903050 | 0.1769 | 0.2599
6205904010 | 0.5308 | 0.7798
6205904030 | 0.2359 | 0.3466
6205904040 | 0.2359 | 0.3466
6206100010 | 0.5308 | 0.7798
6206100030 | 0.2359 | 0.3466
6206100040 | 0.118 | 0.1734
6206100050 | 0.2359 | 0.3466
6206203010 | 0.059 | 0.0867
6206203020 | 0.059 | 0.0867
6206301000 | 1.1796 | 1.7330
6206302000 | 0.6488 | 0.9532
6206303003 | 0.9436 | 1.3862
6206303011 | 0.9436 | 1.3862
6206303021 | 0.9436 | 1.3862
6206303031 | 0.9436 | 1.3862
6206303041 | 0.9436 | 1.3862
6206303051 | 0.9436 | 1.3862
6206303061 | 0.9436 | 1.3862
6206401000 | 0.4128 | 0.6064
6206403010 | 0.2949 | 0.4332
6206403020 | 0.2949 | 0.4332
6206403025 | 0.2949 | 0.4332
6206403030 | 0.2949 | 0.4332
6206403040 | 0.2949 | 0.4332
6206403050 | 0.2949 | 0.4332
6206900010 | 0.5308 | 0.7798
6206900030 | 0.2359 | 0.3466
6206900040 | 0.1769 | 0.2599
6207110000 | 1.0281 | 1.5104
6207199010 | 0.3427 | 0.5035
6207199030 | 0.4569 | 0.6712
6207210010 | 1.0502 | 1.5428
6207210020 | 1.0502 | 1.5428
6207210030 | 1.0502 | 1.5428
6207210040 | 1.0502 | 1.5428
6207220000 | 0.3501 | 0.5143
6207291000 | 0.1167 | 0.1714
6207299030 | 0.1167 | 0.1714
6207911000 | 1.0852 | 1.5943
6207913010 | 1.0852 | 1.5943
6207913020 | 1.0852 | 1.5943
6207997520 | 0.2412 | 0.3543
6207998510 | 0.2412 | 0.3543
6207998520 | 0.2412 | 0.3543
6208110000 | 0.2412 | 0.3543
6208192000 | 1.0852 | 1.5943
6208195000 | 0.1206 | 0.1772
6208199000 | 0.2412 | 0.3543
6208210010 | 1.0026 | 1.4729
6208210020 | 1.0026 | 1.4729
6208210030 | 1.0026 | 1.4729
6208220000 | 0.118 | 0.1734
6208299030 | 0.2359 | 0.3466
6208911010 | 1.0852 | 1.5943
6208911020 | 1.0852 | 1.5943
6208913010 | 1.0852 | 1.5943
6208913020 | 1.0852 | 1.5943
6208920010 | 0.1206 | 0.1772
6208920020 | 0.1206 | 0.1772
6208920030 | 0.1206 | 0.1772
6208920040 | 0.1206 | 0.1772
6208992010 | 0.0603 | 0.0886
6208992020 | 0.0603 | 0.0886
6208995010 | 0.2412 | 0.3543
6208995020 | 0.2412 | 0.3543
6208998010 | 0.2412 | 0.3543
6208998020 | 0.2412 | 0.3543
6209201000 | 1.0967 | 1.6112
6209202000 | 1.039 | 1.5264
6209203000 | 0.9236 | 1.3569
6209205030 | 0.9236 | 1.3569
6209205035 | 0.9236 | 1.3569
6209205045 | 0.9236 | 1.3569
6209205050 | 0.9236 | 1.3569
6209301000 | 0.2917 | 0.4285
6209302000 | 0.2917 | 0.4285
6209303010 | 0.2334 | 0.3429
6209303020 | 0.2334 | 0.3429
6209303030 | 0.2334 | 0.3429
6209303040 | 0.2334 | 0.3429
6209900500 | 0.1154 | 0.1695
6209901000 | 0.2917 | 0.4285
6209902000 | 0.2917 | 0.4285
6209903010 | 0.2917 | 0.4285
6209903015 | 0.2917 | 0.4285
6209903020 | 0.2917 | 0.4285
6209903030 | 0.2917 | 0.4285
6209903040 | 0.2917 | 0.4285
6210109010 | 0.217 | 0.3188
6210109040 | 0.217 | 0.3188
6210203000 | 0.0362 | 0.0532
6210205010 | 0.0844 | 0.1240
6210205020 | 0.4316 | 0.6341
6210205029 | 0.4316 | 0.6341
6210207000 | 0.1809 | 0.2658
6210209039 | 0.1110 | 0.1631
6210209049 | 0.1110 | 0.1631
6210303000 | 0.0362 | 0.0532
6210305010 | 0.0844 | 0.1240
6210305020 | 0.0863 | 0.1268
6210305029 | 0.0863 | 0.1268
6210307000 | 0.0362 | 0.0532
6210309020 | 0.422 | 0.6200
6210309039 | 0.1480 | 0.2174
6210309049 | 0.1480 | 0.2174
6210401500 | 0.037 | 0.0544
6210402531 | 0.0863 | 0.1268
6210402539 | 0.0863 | 0.1268
6210402540 | 0.4316 | 0.6341
6210402550 | 0.4316 | 0.6341
6210402800 | 0.111 | 0.1631
6210402933 | 0.111 | 0.1631
6210402945 | 0.111 | 0.1631
6210402960 | 0.111 | 0.1631
6210403500 | 0.037 | 0.0544
6210405531 | 0.0863 | 0.1268
6210405539 | 0.0863 | 0.1268
6210405540 | 0.4316 | 0.6341
6210405550 | 0.4316 | 0.6341
6210407500 | 0.111 | 0.1631
6210408033 | 0.111 | 0.1631
6210408045 | 0.111 | 0.1631
6210408060 | 0.111 | 0.1631
6210500300 | 0.037 | 0.0544
6210500531 | 0.0863 | 0.1268
6210500539 | 0.0863 | 0.1268
6210500540 | 0.0863 | 0.1268
6210500555 | 0.0863 | 0.1268
6210501200 | 0.4316 | 0.6341
6210502260 | 0.148 | 0.2174
6210502270 | 0.148 | 0.2174
6210502290 | 0.148 | 0.2174
6210503500 | 0.037 | 0.0544
6210505531 | 0.0863 | 0.1268
6210505539 | 0.0863 | 0.1268
6210505540 | 0.0863 | 0.1268
6210505555 | 0.0863 | 0.1268
6210507500 | 0.4316 | 0.6341
6210508060 | 0.148 | 0.2174
6210508070 | 0.148 | 0.2174
6210508090 | 0.148 | 0.2174
6211111010 | 0.1206 | 0.1772
6211111020 | 0.1206 | 0.1772
6211118010 | 1.0852 | 1.5943
6211118020 | 1.0852 | 1.5943
6211118040 | 0.2412 | 0.3543
6211121010 | 0.0603 | 0.0886
6211121020 | 0.0603 | 0.0886
6211128010 | 1.0852 | 1.5943
6211128020 | 1.0852 | 1.5943
6211128030 | 0.6029 | 0.8857
6211200410 | 0.7717 | 1.1337
6211200420 | 0.0965 | 0.1418
6211200430 | 0.7717 | 1.1337
6211200440 | 0.0965 | 0.1418
6211200810 | 0.3858 | 0.5668
6211200820 | 0.3858 | 0.5668
6211201510 | 0.7615 | 1.1187
6211201515 | 0.2343 | 0.3442
6211201520 | 0.6443 | 0.9465
6211201525 | 0.2929 | 0.4303
6211201530 | 0.7615 | 1.1187
6211201535 | 0.3515 | 0.5164
6211201540 | 0.7615 | 1.1187
6211201545 | 0.2929 | 0.4303
6211201550 | 0.7615 | 1.1187
6211201555 | 0.41 | 0.6023
6211201560 | 0.7615 | 1.1187
6211201565 | 0.2343 | 0.3442
6211202400 | 0.1233 | 0.1811
6211202810 | 0.8016 | 1.1776
6211202820 | 0.2466 | 0.3623
6211202830 | 0.3083 | 0.4529
6211203400 | 0.1233 | 0.1811
6211203810 | 0.8016 | 1.1776
6211203820 | 0.2466 | 0.3623
6211203830 | 0.3083 | 0.4529
6211204400 | 0.1233 | 0.1811
6211204815 | 0.8016 | 1.1776
6211204835 | 0.2466 | 0.3623
6211204860 | 0.3083 | 0.4529
6211205400 | 0.1233 | 0.1811
6211205810 | 0.8016 | 1.1776
6211205820 | 0.2466 | 0.3623
6211205830 | 0.3083 | 0.4529
6211206400 | 0.1233 | 0.1811
6211206810 | 0.8016 | 1.1776
6211206820 | 0.2466 | 0.3623
6211206830 | 0.3083 | 0.4529
6211207400 | 0.1233 | 0.1811
6211207810 | 0.9249 | 1.3588
6211207820 | 0.2466 | 0.3623
6211207830 | 0.3083 | 0.4529
6211325003 | 0.6412 | 0.9420
6211325003 | 0.6412 | 0.9420
6211325007 | 0.8016 | 1.1776
6211325007 | 0.8016 | 1.1776
6211325010 | 0.9865 | 1.4493
6211325015 | 0.9865 | 1.4493
6211325025 | 0.9865 | 1.4493
6211325030 | 0.9249 | 1.3588
6211325040 | 0.9249 | 1.3588
6211325050 | 0.9249 | 1.3588
6211325060 | 0.9249 | 1.3588
6211325070 | 0.9249 | 1.3588
6211325075 | 0.9249 | 1.3588
6211325081 | 0.9249 | 1.3588
6211329003 | 0.6412 | 0.9420
6211329007 | 0.8016 | 1.1776
6211329010 | 0.9865 | 1.4493
6211329015 | 0.9865 | 1.4493
6211329025 | 0.9865 | 1.4493
6211329030 | 0.9249 | 1.3588
6211329040 | 0.9249 | 1.3588
6211329050 | 0.9249 | 1.3588
6211329060 | 0.9249 | 1.3588
6211329070 | 0.9249 | 1.3588
6211329075 | 0.9249 | 1.3588
6211329081 | 0.9249 | 1.3588
6211335003 | 0.0987 | 0.1450
6211335007 | 0.1233 | 0.1811
6211335010 | 0.3083 | 0.4529
6211335015 | 0.3083 | 0.4529
6211335017 | 0.3083 | 0.4529
6211335025 | 0.37 | 0.5436
6211335030 | 0.37 | 0.5436
6211335035 | 0.37 | 0.5436
6211335040 | 0.37 | 0.5436
6211335054 | 0.37 | 0.5436
6211335058 | 0.37 | 0.5436
6211335061 | 0.37 | 0.5436
6211339003 | 0.0987 | 0.1450
6211339007 | 0.1233 | 0.1811
6211339010 | 0.3083 | 0.4529
6211339015 | 0.3083 | 0.4529
6211339017 | 0.3083 | 0.4529
6211339025 | 0.37 | 0.5436
6211339030 | 0.37 | 0.5436
6211339035 | 0.37 | 0.5436
6211339040 | 0.37 | 0.5436
6211339054 | 0.37 | 0.5436
6211339058 | 0.37 | 0.5436
6211339061 | 0.37 | 0.5436
6211390310 | 0.1233 | 0.1811
6211390320 | 0.1233 | 0.1811
6211390330 | 0.1233 | 0.1811
6211390340 | 0.1233 | 0.1811
6211390345 | 0.1233 | 0.1811
6211390351 | 0.1233 | 0.1811
6211391510 | 0.2466 | 0.3623
6211391520 | 0.2466 | 0.3623
6211391530 | 0.2466 | 0.3623
6211391540 | 0.2466 | 0.3623
6211391550 | 0.2466 | 0.3623
6211391560 | 0.2466 | 0.3623
6211391570 | 0.2466 | 0.3623
6211391590 | 0.2466 | 0.3623
6211393010 | 0.1233 | 0.1811
6211393020 | 0.1233 | 0.1811
6211393030 | 0.1233 | 0.1811
6211393040 | 0.1233 | 0.1811
6211393045 | 0.1233 | 0.1811
6211393051 | 0.1233 | 0.1811
6211398010 | 0.2466 | 0.3623
6211398020 | 0.2466 | 0.3623
6211398030 | 0.2466 | 0.3623
6211398040 | 0.2466 | 0.3623
6211398050 | 0.2466 | 0.3623
6211398060 | 0.2466 | 0.3623
6211398070 | 0.2466 | 0.3623
6211398090 | 0.2466 | 0.3623
6211420503 | 0.6412 | 0.9420
6211420507 | 0.8016 | 1.1776
6211420510 | 0.9865 | 1.4493
6211420520 | 0.9865 | 1.4493
6211420525 | 1.1099 | 1.6306
6211420530 | 0.8632 | 1.2681
6211420540 | 0.9865 | 1.4493
6211420554 | 1.1099 | 1.6306
6211420556 | 1.1099 | 1.6306
6211420560 | 0.9865 | 1.4493
6211420570 | 1.1099 | 1.6306
6211420575 | 1.1099 | 1.6306
6211420581 | 1.1099 | 1.6306
6211421003 | 0.6412 | 0.9420
6211421007 | 0.8016 | 1.1776
6211421010 | 0.9865 | 1.4493
6211421020 | 0.9865 | 1.4493
6211421025 | 1.1099 | 1.6306
6211421030 | 0.8632 | 1.2681
6211421040 | 0.9865 | 1.4493
6211421054 | 1.1099 | 1.6306
6211421056 | 1.1099 | 1.6306
6211421060 | 0.9865 | 1.4493
6211421070 | 1.1099 | 1.6306
6211421075 | 1.1099 | 1.6306
6211421081 | 1.1099 | 1.6306
6211430503 | 0.0987 | 0.1450
6211430507 | 0.1233 | 0.1811
6211430510 | 0.2466 | 0.3623
6211430520 | 0.2466 | 0.3623
6211430530 | 0.2466 | 0.3623
6211430540 | 0.2466 | 0.3623
6211430550 | 0.2466 | 0.3623
6211430560 | 0.2466 | 0.3623
6211430564 | 0.3083 | 0.4529
6211430566 | 0.2466 | 0.3623
6211430574 | 0.3083 | 0.4529
6211430576 | 0.37 | 0.5436
6211430578 | 0.37 | 0.5436
6211430591 | 0.2466 | 0.3623
6211431003 | 0.0987 | 0.1450
6211431007 | 0.1233 | 0.1811
6211431010 | 0.2466 | 0.3623
6211431020 | 0.2466 | 0.3623
6211431030 | 0.2466 | 0.3623
6211431040 | 0.2466 | 0.3623
6211431050 | 0.2466 | 0.3623
6211431060 | 0.2466 | 0.3623
6211431064 | 0.3083 | 0.4529
6211431066 | 0.2466 | 0.3623
6211431074 | 0.3083 | 0.4529
6211431076 | 0.37 | 0.5436
6211431078 | 0.37 | 0.5436
6211431091 | 0.2466 | 0.3623
6211492510 | 0.2466 | 0.3623
6211492520 | 0.2466 | 0.3623
6211492530 | 0.2466 | 0.3623
6211492540 | 0.2466 | 0.3623
6211492550 | 0.2466 | 0.3623
6211492560 | 0.2466 | 0.3623
6211492570 | 0.2466 | 0.3623
6211492580 | 0.2466 | 0.3623
6211492590 | 0.2466 | 0.3623
6211498010 | 0.2466 | 0.3623
6211498020 | 0.2466 | 0.3623
6211498030 | 0.2466 | 0.3623
6211498040 | 0.2466 | 0.3623
6211498050 | 0.2466 | 0.3623
6211498060 | 0.2466 | 0.3623
6211498070 | 0.2466 | 0.3623
6211498080 | 0.2466 | 0.3623
6211498090 | 0.2466 | 0.3623
6212105010 | 0.9138 | 1.3425
6212105020 | 0.2285 | 0.3357
6212105030 | 0.2285 | 0.3357
6212109010 | 0.9138 | 1.3425
6212109020 | 0.2285 | 0.3357
6212109040 | 0.2285 | 0.3357
6212200010 | 0.6854 | 1.0069
6212200020 | 0.2856 | 0.4196
6212200030 | 0.1142 | 0.1678
6212300010 | 0.6854 | 1.0069
6212300020 | 0.2856 | 0.4196
6212300030 | 0.1142 | 0.1678
6212900010 | 0.1828 | 0.2686
6212900020 | 0.1828 | 0.2686
6212900030 | 0.1828 | 0.2686
6212900050 | 0.0914 | 0.1343
6212900090 | 0.4112 | 0.6041
6213201000 | 1.1187 | 1.6435
6213202000 | 1.0069 | 1.4792
6213900700 | 0.4475 | 0.6574
6213901000 | 0.4475 | 0.6574
6213902000 | 0.3356 | 0.4930
6214300000 | 0.1142 | 0.1678
6214400000 | 0.1142 | 0.1678
6214900010 | 0.8567 | 1.2586
6214900090 | 0.2285 | 0.3357
6215100025 | 0.1142 | 0.1678
6215200000 | 0.1142 | 0.1678
6215900015 | 1.0281 | 1.5104
6216000800 | 0.0685 | 0.1006
6216001300 | 0.3427 | 0.5035
6216001720 | 0.6397 | 0.9398
6216001730 | 0.1599 | 0.2349
6216001900 | 0.3427 | 0.5035
6216002110 | 0.578 | 0.8491
6216002120 | 0.2477 | 0.3639
6216002410 | 0.6605 | 0.9703
6216002425 | 0.1651 | 0.2425
6216002600 | 0.1651 | 0.2425
6216002910 | 0.6605 | 0.9703
6216002925 | 0.1651 | 0.2425
6216003100 | 0.1651 | 0.2425
6216003300 | 0.5898 | 0.8665
6216003500 | 0.5898 | 0.8665
6216003800 | 1.1796 | 1.7330
6216004100 | 1.1796 | 1.7330
6217109510 | 0.9646 | 1.4171
6217109520 | 0.1809 | 0.2658
6217109530 | 0.2412 | 0.3543
6217909003 | 0.9646 | 1.4171
6217909005 | 0.1809 | 0.2658
6217909010 | 0.2412 | 0.3543
6217909025 | 0.9646 | 1.4171
6217909030 | 0.1809 | 0.2658
6217909035 | 0.2412 | 0.3543
6217909050 | 0.9646 | 1.4171
6217909055 | 0.1809 | 0.2658
6217909060 | 0.2412 | 0.3543
6217909075 | 0.9646 | 1.4171
6217909080 | 0.1809 | 0.2658
6217909085 | 0.2412 | 0.3543
6301300010 | 0.8305 | 1.2201
6301300020 | 0.8305 | 1.2201
6301900030 | 0.2215 | 0.3254
6302100005 | 1.1073 | 1.6267
6302100008 | 1.1073 | 1.6267
6302100015 | 1.1073 | 1.6267
6302213010 | 1.1073 | 1.6267
6302213020 | 1.1073 | 1.6267
6302213030 | 1.1073 | 1.6267
6302213040 | 1.1073 | 1.6267
6302213050 | 1.1073 | 1.6267
6302215010 | 0.7751 | 1.1387
6302215020 | 0.7751 | 1.1387
6302215030 | 0.7751 | 1.1387
6302215040 | 0.7751 | 1.1387
6302215050 | 0.7751 | 1.1387
6302217010 | 1.1073 | 1.6267
6302217020 | 1.1073 | 1.6267
6302217030 | 1.1073 | 1.6267
6302217040 | 1.1073 | 1.6267
6302217050 | 1.1073 | 1.6267
6302219010 | 0.7751 | 1.1387
6302219020 | 0.7751 | 1.1387
6302219030 | 0.7751 | 1.1387
6302219040 | 0.7751 | 1.1387
6302219050 | 0.7751 | 1.1387
6302221010 | 0.5537 | 0.8134
6302221020 | 0.3876 | 0.5694
6302221030 | 0.5537 | 0.8134
6302221040 | 0.3876 | 0.5694
6302221050 | 0.3876 | 0.5694
6302221060 | 0.3876 | 0.5694
6302222010 | 0.3876 | 0.5694
6302222020 | 0.3876 | 0.5694
6302222030 | 0.3876 | 0.5694
6302290020 | 0.2215 | 0.3254
6302313010 | 1.1073 | 1.6267
6302313020 | 1.1073 | 1.6267
6302313030 | 1.1073 | 1.6267
6302313040 | 1.1073 | 1.6267
6302313050 | 1.1073 | 1.6267
6302315010 | 0.7751 | 1.1387
6302315020 | 0.7751 | 1.1387
6302315030 | 0.7751 | 1.1387
6302315040 | 0.7751 | 1.1387
6302315050 | 0.7751 | 1.1387
6302317010 | 1.1073 | 1.6267
6302317020 | 1.1073 | 1.6267
6302317030 | 1.1073 | 1.6267
6302317040 | 1.1073 | 1.6267
6302317050 | 1.1073 | 1.6267
6302319010 | 0.7751 | 1.1387
6302319020 | 0.7751 | 1.1387
6302319030 | 0.7751 | 1.1387
6302319040 | 0.7751 | 1.1387
6302319050 | 0.7751 | 1.1387
6302321010 | 0.5537 | 0.8134
6302321020 | 0.3876 | 0.5694
6302321030 | 0.5537 | 0.8134
6302321040 | 0.3876 | 0.5694
6302321050 | 0.3876 | 0.5694
6302321060 | 0.3876 | 0.5694
6302322010 | 0.5537 | 0.8134
6302322020 | 0.3876 | 0.5694
6302322030 | 0.5537 | 0.8134
6302322040 | 0.3876 | 0.5694
6302322050 | 0.3876 | 0.5694
6302322060 | 0.3876 | 0.5694
6302390030 | 0.2215 | 0.3254
6302402010 | 0.9412 | 1.3827
6302511000 | 0.5537 | 0.8134
6302512000 | 0.8305 | 1.2201
6302513000 | 0.5537 | 0.8134
6302514000 | 0.7751 | 1.1387
6302593020 | 0.5537 | 0.8134
6302600010 | 1.1073 | 1.6267
6302600020 | 0.9966 | 1.4641
6302600030 | 0.9966 | 1.4641
6302910005 | 0.9966 | 1.4641
6302910015 | 1.1073 | 1.6267
6302910025 | 0.9966 | 1.4641
6302910035 | 0.9966 | 1.4641
6302910045 | 0.9966 | 1.4641
6302910050 | 0.9966 | 1.4641
6302910060 | 0.9966 | 1.4641
6302931000 | 0.4429 | 0.6507
6302932000 | 0.4429 | 0.6507
6302992000 | 0.2215 | 0.3254
6303191100 | 0.8859 | 1.3015
6303910010 | 0.609 | 0.8947
6303910020 | 0.609 | 0.8947
6303921000 | 0.2768 | 0.4066
6303922010 | 0.2768 | 0.4066
6303922030 | 0.2768 | 0.4066
6303922050 | 0.2768 | 0.4066
6303990010 | 0.2768 | 0.4066
6304111000 | 0.9966 | 1.4641
6304113000 | 0.1107 | 0.1626
6304190500 | 0.9966 | 1.4641
6304191000 | 1.1073 | 1.6267
6304191500 | 0.3876 | 0.5694
6304192000 | 0.3876 | 0.5694
6304193060 | 0.2215 | 0.3254
6304200020 | 0.8859 | 1.3015
6304200070 | 0.2215 | 0.3254
6304910120 | 0.8859 | 1.3015
6304910170 | 0.2215 | 0.3254
6304920000 | 0.8859 | 1.3015
6304996040 | 0.2215 | 0.3254
6505001515 | 1.1189 | 1.6438
6505001525 | 0.5594 | 0.8218
6505001540 | 1.1189 | 1.6438
6505002030 | 0.9412 | 1.3827
6505002060 | 0.9412 | 1.3827
6505002545 | 0.5537 | 0.8134
6507000000 | 0.3986 | 0.5856
9404401000 | 0.9966 | 1.4641
9404409005 | 0.6644 | 0.9761
9404409036 | 0.0997 | 0.1465
9404901030 | 0.2104 | 0.3091
9404901060 | 0.2104 | 0.3091
9404901090 | 0.2104 | 0.3091
9404908100 | 0.9966 | 1.4641
9404909605 | 0.6644 | 0.9761
9404909636 | 0.0997 | 0.1465
9619002100 | 0.8681 | 1.2753
9619002500 | 0.1085 | 0.1594
9619003100 | 0.9535 | 1.4008
9619003300 | 1.1545 | 1.6961
9619004100 | 0.2384 | 0.3502
9619004300 | 0.2384 | 0.3502
9619006100 | 0.8528 | 1.2528
9619006400 | 0.2437 | 0.3580
9619006800 | 0.3655 | 0.5370
9619007100 | 1.1099 | 1.6306
9619007400 | 0.2466 | 0.3623
9619007800 | 0.2466 | 0.3623
9619007900 | 0.2466 | 0.3623

* * * * *

Authority: 7 U.S.C. 2101-2118.

Melissa Bailey,
Associate Administrator, Agricultural Marketing Service.

[FR Doc. 2023-17220 Filed 8-14-23; 8:45 am]

BILLING CODE P